COURT SERVICES AND OFFENDER SUPERVISION AGENCY FOR THE DISTRICT OF COLUMBIA

Privacy Act of 1974; Notice of New Systems

Pursuant to the provisions of the Privacy Act of 1974 (5 U.S.C. 552a), the Court Services and Offender Supervision Agency for the District of Columbia (CSOSA) gives notice that it proposes to establish the following new systems of records for itself and for the Pretrial Services Agency, an independent entity within CSOSA.

Public Affairs File (CSOSA-1). Information in this system relates to matters for which the Office of Legislative, Intergovernmental and Public Affairs has responsibility pursuant to 5 U.S.C. 301. Responsibilities include handling and responding to inquiries from Congress, the DC City Council and the news media. This system covers records relating to Congressional inquiries relating to CSOSA and its employees (identified in the system description below).

Background Investigation (CSOSA-2). Information in this system relates to matters for which the Security Office has responsibility pursuant to Executive Order 10450 and 5 CFR parts 5, 731, 732 and 736. Responsibilities include providing investigatory information for employee suitability determinations to include FBI and name checks. This system covers records relating to CSOSA employee background checks (identified in the system description below).

Employee Credential System (CSOSA-3). Information in this system relates to matters for which Management and Administration has responsibility pursuant to 5 U.S.C. 301. Responsibilities include providing investigatory information for employee suitability determinations. This system covers records relating to issuance of CSOSA employee credentials (identified in the system description below).

Proximity Card System (CSOSA-4). Information in this system relates to matters for which Management and Administration has responsibility pursuant to 5 U.S.C. 301. Responsibilities include providing security determinations for agency employees. This system covers records relating to CSOSA employee access to agency offices.

Budget System (CSOSA-5). Information in this system relates to matters for which Management and Administration has responsibility pursuant to 5 U.S.C. 301. Responsibilities include providing payroll projections for budget purposes. This system covers records relating to CSOSA payroll and budget projections and to track employees by organizations within CSOSA (identified in the system description below).

Payroll and Leave Records (CSOSA-6). Information in this system relates to matters for which Human Resources Management has responsibility pursuant to 5 U.S.C. 301 and 44 U.S.C. 3101. Responsibilities include providing personnel management services to the agency. This system covers records relating to CSOSA employee name and other personal identifying information as well as salaries, leave balances, withholdings and financial allotments (identified in the system description below).

Time and Attendance Records (CSOSA-7). Information in this system relates to matters for which Human Resources Management has responsibility pursuant to 5 CFR, part 630. Responsibilities include maintaining time and attendance reports, leave slips and audit reports on agency employees. This system covers records relating to CSOSA employee time and attendance, leave category, leave balances and organization code.

Training Management System (CSOSA-8). Information in this system relates to matters for which Human Resources Management has responsibility pursuant to 5 U.S.C. 301. Responsibilities include providing training to agency employees. This system covers records relating to CSOSA employee training, class schedules and attendance.

Supervision Offender Case File (CSOSA-9). Information in this system relates to matters for which Community Supervision Services has responsibility pursuant to the National Capital Revitalization and Self-Government Improvement Act of 1997, Public Law 105-33 and 5 U.S.C. 301. Responsibilities include providing supervision for individuals sentenced as District of Columbia offenders who are under parole and/or probation supervision. This system covers records relating to, for example, risk/needs assessment, supervision documentation and case management (identified in the system description below).

Pre-sentence Investigations (CSOSA-10). Information in this system relates to matters for which Community Supervision Services has responsibility pursuant to the National Capital Revitalization and Self-Government Improvement Act of 1997, Public Law 105-33 and 5 U.S.C. 301. Responsibilities include providing the sentencing judge with criminal and social history investigations on defendants. This system covers records relating to defendants sentenced in the District of Columbia Superior Court (identified in the system description below).

Supervision & Management Automated Record Tracking (SMART) (CSOSA-11). Information in this system relates to matters for which CSOSA has responsibility pursuant to the National Capital Revitalization and Self-Government Improvement Act of 1997, Public Law 105-33 and 5 U.S.C. 301. Responsibilities include providing supervision for individuals sentenced as District of Columbia offenders who are under parole and/or probation supervision. This system covers records relating to, for example, risk/needs assessment, supervision documentation and case management (identified in the system description below).

Recidivism Tracking Database (CSOSA-12). Information in this system relates to matters for which Community Supervision Services has responsibility pursuant to 5 U.S.C. 301. Responsibilities include providing community relations and partnerships and treatment management. This system covers records relating to offenders' employment in the community (identified in the system description below).

Freedom of Information-Privacy Acts System (CSOSA-13). Information in this system relates to matters for which the Office of the General Counsel has responsibility pursuant to 5 U.S.C. 552 and 552a. Responsibilities include providing legal representation and legal advice, ethics advice and processing of FOIA/PA requests for agency records. This system covers records relating to CSOSA FOIA/PA requests and responses (identified in the system description below).

Employment Profile Database (CSOSA-14). Information in this system relates to matters for which Community Justice Programs has responsibility pursuant to 5 U.S.C. 301. Responsibilities include providing community relations and partnerships and treatment management. This system covers records relating to offenders employment in the community (identified in the system description below).

Substance Abuse Treatment Database (CSOSA-15). Information in this system relates to matters for which Community Supervision Services has responsibility pursuant to 5 U.S.C. 301. Responsibilities include providing community relations and partnerships and treatment management. This system covers records relating to offender substance abuse treatment (identified in the system description below).

Screener Database (CSOSA-16). Information in this system relates to matters for which Community Justice Programs has responsibility pursuant to 5 U.S.C. 301. Responsibilities include providing community relations and partnerships and treatment management. This system covers records relating to offender risk assessments (identified in the system description below).

Office of Professional Responsibility Record (OPR) (CSOSA-17). Information in this system relates to matters for which the Office of Professional Responsibility has oversight pursuant to 5 U.S.C. 301. Responsibilities include auditing, inspecting and investigating agency programs and employee misconduct and preventing waste, fraud and abuse in agency programs. This system covers records relating to CSOSA OPR investigations of staff misconduct (identified in the system description below).

Sex Offender Registry (CSOSA-18). Information in this system relates to matters for which Community Supervision Services has responsibility pursuant to the National Capital Revitalization and Self-Government Improvement Act of 1997, Public Law 105-33, section 11231-11234 and section 11271-11280. Responsibilities include sex offender registration and sentencing commission issues for individuals sentenced as District of Columbia offenders. This system covers records relating to, for example, sex offender registration (identified in the system description below).

Drug Free Workplace Program (CSOSA-19). Information in this system relates to matters for which Management and Administration has responsibility pursuant to Executive Order 12564. Responsibilities include providing finance and budget information as well as security information for employee suitability determinations. This system covers records relating to CSOSA employee and applicant drug testing (identified in the system description below).

Automated Bail Agency Database (ABA DABA) (CSOSA/PSA-1). Information in this system relates to matters for which PSA has responsibility pursuant the National Capital Revitalization and Self-Government Improvement Act of 1997, Public Law 105-33, section 11231-11234 and section 11271-11280, 5 U.S.C. 301 and D.C. Code 23, sections 1301-1309. Responsibilities include supervision and monitoring of defendants on pretrial release. This system covers records relating to District of Columbia defendants charged with federal and local misdemeanor and felony charges (identified in the system description below).

Drug Test Management System (DTMS) (CSOSA/PSA-2). Information in this system relates to matters for which PSA has responsibility pursuant the National Capital Revitalization and Self-Government Improvement Act of 1997, Public Law 105-33, section 11231-11234 and section 11271-11280, 5 U.S.C. 301 and D.C. Code 23, sections 1301-1309. Responsibilities include supervision and monitoring of defendants on pretrial release. This system covers records relating to District of Columbia defendants charged with federal and local misdemeanor and felony charges (identified in the system description below).

Interview and Treatment Files (CSOSA/PSA-3). Information in this system relates to matters for which PSA has responsibility pursuant the National Capital Revitalization and Self-Government Improvement Act of 1997, Public Law 105-33, section 11231-11234 and section 11271-11280, 5 U.S.C. 301 and D.C. Code 23, sections 1301-1309. Responsibilities include supervision and monitoring of defendants on pretrial release. This system covers records relating to District of Columbia defendants charged with federal and local misdemeanor and felony charges (identified in the system description below).

Payroll Files (CSOSA/PSA-4). Information in this system relates to matters for which the PSA Human Resources has responsibility pursuant to 5 U.S.C. 301 and 44 U.S.C. 3101. Responsibilities include providing personnel management services to the agency. This system covers records relating to PSA employee name and other personal identifying information as well as salaries, leave balances, withholdings and financial allotments (identified in the system description below).

Time and Attendance Files (CSOSA/PSA-5). Information in this system relates to matters for which the PSA Human Resources has responsibility pursuant to 5 CFR, Part 630. Responsibilities include maintaining time and attendance reports, leave slips and audit reports on agency employees. This system covers records relating to PSA employee time and attendance, leave category, leave balances and organization code.

Pretrial, Probation and Parole Realtime Information Systems Manager (PRISM) (CSOSA/PSA-6). Information in this system relates to matters for which PSA has responsibility pursuant the National Capital Revitalization and Self-Government Improvement Act of 1997, Public Law 105-33, section 11231-11234 and section 11271-11280, 5 U.S.C. 301 and D.C. Code 23, sections 1301-1309. Responsibilities include supervision and monitoring of defendants on pretrial release. This system covers records relating to District of Columbia defendants charged with federal and local misdemeanor and felony charges and municipal and traffic violations (identified in the system description below).

A rule document promulgating exemptions for these systems appears in the Proposed Rules Section of today's Federal Register.

Title 5 U.S.C. 552a(e)(4) and (11) provide that the public be provided a 30-day period in which to comment on the routine uses of a new system; the Office of Management and Budget (OMB), which has oversight responsibilities under the Act, requires that it be given a 40-day period in which to review the system.

Therefore, please submit any comments by April 15, 2002. The public, OMB and Congress are invited to send written comments to Renee Barley, FOIA Officer, Office of the General Counsel, Court Services and Offender Supervision Agency, 633 Indiana Avenue, NW., Washington, DC 20004.

In accordance with Privacy Act requirements, CSOSA has provided a report on the proposed systems to OMB and Congress.

Dated: March 7, 2002.
Jasper Ormond,
Interim Director, Court Services and Offender Supervision Agency.

Court Services and Offender Supervision Agency for the District of Columbia (Including Pretrial Services Agency)

Table of Contents

CSOSA-1—Public Affairs File.

CSOSA-2—Background Investigation.

CSOSA-3—Employee Credential System.

CSOSA-4—Proximity Card System.

CSOSA-5—Budget System.

CSOSA-6—Payroll and Leave Records.

CSOSA-7—Time and Attendance Records.

CSOSA-8—Training Management System.

CSOSA-9—Supervision Offender Case File.

CSOSA-10—Pre-sentence Investigations.

CSOSA-11—Supervision & Management Automated Record Tracking.

CSOSA-12—Recidivism Tracking Database.

CSOSA-13—Freedom of Information-Privacy Act System.

CSOSA-14—Employment Profile Database.

CSOSA-15—Substance Abuse Treatment Database.

CSOSA-16—Screener Database.

CSOSA-17—Office of Professional Responsibility Record.

CSOSA-18—Sex Offender Registry.

CSOSA-19 —Drug Free Workplace Program.

CSOSA/PSA-1—Automated Bail Agency Database.

CSOSA/PSA-2—Drug Test Management System.

CSOSA/PSA-3—Interview and Treatment Files.

CSOSA/PSA-4—Payroll Files.

CSOSA/PSA-5—Time and Attendance Files.

CSOSA/PSA-6—Pretrial, Probation and Parole Realtime Information Systems Manager.

CSOSA-1

SYSTEM NAME:

Public Affairs File.

SECURITY CLASSIFICATION:

None.

SYSTEM LOCATION:

Court Services and Offender Supervision Agency, Office of Legislative, Intergovernmental and Public Affairs Division, 633 Indiana Avenue, NW., Washington, DC 20004.

CATEGORIES OF INDIVIDUALS COVERED BY THE SYSTEM:

Members of the United States Congress and the District of Columbia (D.C.) City Council.

CATEGORIES OF RECORDS IN THE SYSTEM:

(1) Inquiries from Members of Congress and D.C. City Council; (2) Replies to congressional and D.C. City Council inquiries.

AUTHORITY FOR MAINTENANCE OF THE SYSTEM:

5 U.S.C. 301.

PURPOSE(S):

This system is maintained to provide a history of congressional and D.C. City Council inquiries. Also, to provide the capability to control and track correspondence to ensure a timely response and/or any other required action.

ROUTINE USES OF RECORDS MAINTAINED IN THE SYSTEM, INCLUDING CATEGORIES OF USERS AND THE PURPOSES OF SUCH USES:

Primary use of the system is limited to the Office of Legislative, Intergovernmental and Public Affairs staff and to officials who need access to perform official duties. Records in this system may be disclosed as follows:

A. Information permitted to be released to the news media and that may be made available unless it is determined that release of the specific information in the context of a particular case would constitute an unwarranted invasion of personal privacy.

B. Disclosure may be made to a congressional office or D.C. City Council member in response to an inquiry made at the request of an employee, contractor, vendor employed by or offender under supervision of CSOSA and/or PSA.

C. Information may be disclosed to any civil or criminal law enforcement agency, whether Federal, State, or local or foreign, which requires information relevant to a civil or criminal investigation.

D. Information may be disclosed to officials and employees of any Federal agency which requires information relevant to an agency decision concerning the hiring, appointment or retention of an employee; the issuance of a security clearance; the execution of a security or suitability investigation or the classification of a job.

E. Information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA or PSA and/or who are covered by this system, including (but not limited to) decisions to effect any necessary remedial actions, e.g., debt collection activity, disciplinary and/or other appropriate personnel actions, and/or other law enforcement related actions, where appropriate.

F. A record may be disclosed to the National Archives and Records Administration and to the General Services Administration during a records management inspection conducted under 44 U.S.C. 2904 and 2906.

POLICIES AND PRACTICES FOR STORING, RETRIEVING, ACCESSING, RETAINING, AND DISPOSING OF RECORDS IN THE SYSTEM:

STORAGE:

Information in this system is stored manually in file jackets in hardcopy (paper copies).

RETRIEVABILITY:

Information is arranged and retrieved alphabetically by the name of the congressional staff member or D.C. City Council member.

SAFEGUARDS:

Information is stored in file cabinets in secured offices or in guarded buildings, and accessed only by authorized, screened personnel.

RETENTION AND DISPOSAL:

Records in this system are retained and disposed of in accordance with General Records Schedule 12.

SYSTEM MANAGER(S) AND ADDRESS:

Associate Director, Office of Legislative, Intergovernmental and Public Affairs, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORD ACCESS PROCEDURES:

To locate a specific record, you must provide the name of the individual who corresponded with the agency. Requesters should also reasonably specify the record contents being sought. The address is the same as indicated in the Notification procedure.

CONTESTING RECORD PROCEDURES:

Contact the official at the address specified under Notification procedure above and reasonably identify the record and specify the information to be contested.

RECORD SOURCE CATEGORIES:

Information is derived from the incoming and outgoing correspondence from congressional and/or D.C. City Council members and CSOSA and/or PSA.

EXEMPTIONS CLAIMED FOR THE SYSTEM:

None. Although no exemption has been claimed for this system of records, certain information may be duplicative of records contained in another system of records which may have an exemption. In those circumstances, the exemption will still apply.

CSOSA-2

SYSTEM NAME:

Background Investigation.

SECURITY CLASSIFICATION:

None.

SYSTEM LOCATION:

Court Services and Offender Supervision Agency, Management and Administration Division, 633 Indiana Avenue, NW., Washington, DC 20004

CATEGORIES OF INDIVIDUALS COVERED BY THE SYSTEM:

The two systems (Background Investigation Files and Background Investigation Database) maintain records on: (1) Current and former employees of CSOSA; (2) Current or former contract employees; and (3) Applicants for employment with CSOSA.

CATEGORIES OF RECORDS IN THE SYSTEM:

(1) Records containing investigative material compiled solely for the purpose of determining suitability, eligibility or qualifications for Federal civilian employment; (2) FBI and other agency name checks.

AUTHORITY FOR MAINTENANCE OF THE SYSTEM:

Executive Order 10450 and 5 CFR parts 5, 731, 732 and 736.

PURPOSE(S):

To provide investigatory information for determinations concerning compliance with Federal personnel regulations and for individual personnel determinations including suitability and fitness for Federal employment, access and security clearances and evaluations of qualifications for performance of contractual services for the Court Services and Offender Supervision Agency.

ROUTINE USES OF RECORDS MAINTAINED IN THE SYSTEM, INCLUDING CATEGORIES OF USERS AND THE PURPOSES OF SUCH USES:

A. Disclosure may be made to a congressional office or D.C. City Council member(s) in response to an inquiry made at the request of an employee or contractor employed by CSOSA.

B. Information may be disclosed to any civil or criminal law enforcement agency, whether Federal, state, or local or foreign, which requires information relevant to a civil or criminal investigation.

C. Information may be disclosed to officials and employees of any Federal agency which requires information relevant to an agency decision concerning the hiring, appointment or retention of an employee; the issuance of a security clearance; the execution of a security or suitability investigation or the classification of a job.

D. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA and who are covered by this system, including (but not limited to) decisions to effect any necessary remedial actions, e.g., debt collection activity, disciplinary and/or other appropriate personnel actions, and/or other law enforcement related actions, where appropriate.

E. To any source from which information is requested in the course of an investigation, to the extent necessary to identify the individual, inform the source of the nature and purpose of the investigation and to identify the type of information requested.

F. To the appropriate Federal, state, local, foreign or other public authority responsible for investigating, prosecuting, enforcing or implementing a statute, rule, regulation, or order where CSOSA becomes aware of an indication of a violation or potential violation of civil or criminal law or regulation.

G. To disclose information to contractors, grantees, experts, consultants or volunteers performing or working on a contract, service or job for CSOSA.

H. To disclose information to consumer reporting agencies to obtain commercial credit reports.

I. A record may be disclosed to the National Archives and Records Administration and to the General Services Administration during a records management inspection conducted under 44 U.S.C. 2904 and 2906.

DISCLOSURE TO CONSUMER REPORTING AGENCIES:

Disclosure to consumer reporting agencies under subsection (b)(12) of the Privacy Act. Disclosure may be made from this system to consumer reporting agencies as defined in the Debt Collection Act of 1982 (31 U.S.C. 3701 (a)(3)) or the Fair Credit Reporting Act (15 U.S.C. 1681a(f)).

POLICIES AND PRACTICES FOR STORING, RETRIEVING, ACCESSING, RETAINING, AND DISPOSING OF RECORDS IN THE SYSTEM:

STORAGE:

The information is maintained manually in file jackets in hardcopy (paper copies) and electronically.

RETRIEVABILITY:

Information is arranged and retrieved alphabetically by the name of the employee, applicant or contractor.

SAFEGUARDS:

The information is stored in GSA approved security containers, which use GP-1 combination locks in a guarded building. Electronic information is stored on a computer which is password protected in a locked office.

RETENTION AND DISPOSAL:

Records in this system are retained and disposed of in accordance with General Records Schedule 18.

SYSTEM MANAGER(S) AND ADDRESS:

Associate Director, Management and Administration, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004. The Director of the Court Services and Offender Supervision Agency has exempted this system from the provisions of 5 U.S.C. 552a (e)(4)(G).

RECORD ACCESS PROCEDURES:

To locate a specific record, you must provide the name of the individual and provide at least two items of identification (date of birth, employee identification number, dates of employment or similar information). The address is the same as indicated in the Notification procedures. The Director of the Court Services and Offender Supervision Agency has exempted this system from the provisions of 5 U.S.C. 552a (e)(4)(H).

CONTESTING RECORD PROCEDURES:

Contact the official at the address specified under Notification procedure above and reasonably identify the record and specify the information to be contested.

RECORD SOURCE CATEGORIES:

The information provided or verified by applicants or employees whose files are on record as authorized, information obtained from current and former employers, co-workers, neighbors, acquaintances, educational records and instructors, and police and credit record checks. The Director of the Court Services and Offender Supervision Agency has exempted this system from the provisions of 5 U.S.C. 552a (e)(4)(I).

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (j), (k)(1) and (k)(2). Rules have been promulgated in accordance with the requirements of 5 U.S.C. 553 (b), (c) and (e) and have been published in the Federal Register.

CSOSA-3

SYSTEM NAME:

Employee Credential System.

SECURITY CLASSIFICATION:

None.

SYSTEM LOCATION:

Court Services and Offender Supervision Agency (CSOSA), Management and Administration Division, 633 Indiana Avenue, NW., Washington, DC 20004.

CATEGORIES OF INDIVIDUALS COVERED BY THE SYSTEM:

Current or former employees.

CATEGORIES OF RECORDS IN THE SYSTEM:

The system maintains a record of each employee issued an agency credential with badge or medallion.

AUTHORITY FOR MAINTENANCE OF THE SYSTEM:

5 U.S.C. 301.

PURPOSE(S):

The information is used to maintain a record of each individual issued an agency credential as well as the accountability of each badge and medallion.

ROUTINE USES OF RECORDS MAINTAINED IN THE SYSTEM, INCLUDING CATEGORIES OF USERS AND THE PURPOSES OF SUCH USES:

A. Disclosure may be made to a congressional member or staff in response to an inquiry made at the request of an employee employed by CSOSA.

B. Information may be disclosed to any civil or criminal law enforcement agency, whether Federal, state, or local or foreign, which requires information relevant to a civil or criminal investigation.

C. Information may be disclosed to officials and employees of any Federal agency which requires information relevant to an agency decision concerning the hiring, appointment or retention of an employee; the issuance of a security clearance; the execution of a security or suitability investigation or the classification of a job.

D. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA and who are covered by this system, including (but not limited to) decisions to effect any necessary remedial actions, e.g., debt collection activity, disciplinary and/or other appropriate personnel actions, and/or other law enforcement related actions, where appropriate.

E. To the appropriate Federal, state, local, foreign or other public authority responsible for investigating, prosecuting, enforcing or implementing a statute, rule, regulation, or order where CSOSA becomes aware of an indication of a violation or potential violation of civil or criminal law or regulation.

F. Information permitted to be released to the news media and that may be made available unless it is determined that release of the specific information in the context of a particular case would constitute an unwarranted invasion of personal privacy.

G. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The information is stored on a stand-alone computer system in a room which is protected by a control access device.

RETRIEVABILITY:

Information is retrieved by the name and/or social security number of the employee.

SAFEGUARDS:

See storage procedures above.

RETENTION AND DISPOSAL:

Records in this system are retained and disposed of in accordance with General Records Schedule 18.

SYSTEM MANAGER(S) AND ADDRESS:

Associate Director, Management and Administration, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number or similar information). The address is the same as indicated in the notification procedures.

CONTESTING RECORD PROCEDURES:

Contact the official at the address specified under notification procedure above and reasonably identify the record and specify the information to be contested.

RECORD SOURCE CATEGORIES:

The information is provided by employees of CSOSA.

EXEMPTIONS CLAIMED FOR THE SYSTEM:

None.

CSOSA-4

SYSTEM NAME:

Proximity Card System.

SECURITY CLASSIFICATION:

None.

SYSTEM LOCATION:

Court Services and Offender Supervision Agency, Management and Administration Division, 633 Indiana Avenue, NW., Washington, DC 20004.

CATEGORIES OF INDIVIDUALS COVERED BY THE SYSTEM:

(1) Current and former employees and (2) current or former contract employees.

CATEGORIES OF RECORDS IN THE SYSTEM:

The system contains the name and proximity card number for each current or former employee or contractor.

AUTHORITY FOR MAINTENANCE OF THE SYSTEM:

5 U.S.C. 301.

PURPOSE(S):

The information is used to track each individual issued an agency proximity card and their associated access control level, as well as the accountability of each card. Also used to ensure the physical security of the employee and work environment.

ROUTINE USES OF RECORDS MAINTAINED IN THE SYSTEM, INCLUDING CATEGORIES OF USERS AND THE PURPOSES OF SUCH USES:

A. To provide information to a congressional member from the record of an individual in response to an inquiry from that congressional member made at the request of the employee or contractor.

B. To disclose to other government agencies and to the public whether an individual is a current employee of CSOSA.

C. To disclose information to another Federal agency, to a court, or to a party in litigation before a court or in an administrative proceeding being conducted by a Federal agency when the government is a party to the judicial or administrative proceeding.

D. Information may be disclosed to any civil or criminal law enforcement agency, whether Federal, state, or local or foreign, which requires information relevant to a civil or criminal investigation.

E. Information may be disclosed to officials and employees of any Federal agency which requires information relevant to an agency decision concerning the hiring, appointment or retention of an employee; the issuance of a security clearance; the execution of a security or suitability investigation or the classification of a job.

F. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA and who are covered by this system, including (but not limited to) decisions to effect any necessary remedial actions, e.g., debt collection activity, disciplinary and/or other appropriate personnel actions, and/or other law enforcement related actions, where appropriate.

G. To the appropriate Federal, state, local, foreign or other public authority responsible for investigating, prosecuting, enforcing or implementing a statute, rule, regulation, or order where CSOSA becomes aware of an indication of a violation or potential violation of civil or criminal law or regulation.

H. To disclose information to contractors, grantees, experts, consultants or volunteers performing or working on a contract, service or job for CSOSA.

I. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The information is maintained manually in file jackets in hardcopy (paper copies) and electronically.

RETRIEVABILITY:

Information is retrieved by the name and/or identification number of the individual.

SAFEGUARDS:

The information is stored on a computer system that is password protected and located in a room with limited access.

RETENTION AND DISPOSAL:

The information is retained and disposed of in accordance with General Records Schedule 18.

SYSTEM MANAGER(S) AND ADDRESS:

Associate Director, Management and Administration, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

The information provided or verified by employees whose files are on record as authorized and information obtained from current and former employers.

EXEMPTIONS CLAIMED FOR THE SYSTEM:

None.

CSOSA-5

SYSTEM NAME:

Budget System.

SECURITY CLASSIFICATION:

None.

SYSTEM LOCATION:

Court Services and Offender Supervision Agency, Management and Administration Division, 633 Indiana Avenue, NW., Washington, DC 20004.

CATEGORIES OF INDIVIDUALS COVERED BY THE SYSTEM:

Current and former employees of CSOSA.

CATEGORIES OF RECORDS IN THE SYSTEM:

The system maintains a record of each individual employed by the agency. Each record contains the name, social security number, position title, salary and benefits of the individual.

AUTHORITY FOR MAINTENANCE OF THE SYSTEM:

5 U.S.C. 301.

PURPOSE(S):

The information is used to make payroll projections for budget purposes and to track employees by organization within CSOSA.

ROUTINE USES OF RECORDS MAINTAINED IN THE SYSTEM, INCLUDING CATEGORIES OF USERS AND THE PURPOSES OF SUCH USES:

A. To provide information to a congressional member from the record of an individual in response to an inquiry from that congressional member made at the request of the employee or contractor.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance; the execution of a security or suitability investigation or the classification of a job.

E. To the appropriate Federal, state, local, foreign or other public authority responsible for investigating, prosecuting, enforcing or implementing a statute, rule, regulation, or order where CSOSA becomes aware of an indication of a violation or potential violation of civil or criminal law or regulation.

F. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The information is stored on a personal computer which is password protected.

RETRIEVABILITY:

The information can be retrieved by the name and/or personal identifier of the employee.

SAFEGUARDS:

The information is maintained on a server with limited access by user-ID and password.

RETENTION AND DISPOSAL:

The information is retained and disposed of in accordance with General Records Schedule 2.

SYSTEM MANAGER(S) AND ADDRESS:

Associate Director, Management and Administration, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

The information provided by employees and information obtained from current and former employers.

EXEMPTIONS CLAIMED FOR THE SYSTEM:

None.

CSOSA-6

SYSTEM NAME:

Payroll and Leave Records.

SECURITY CLASSIFICATION:

None.

SYSTEM LOCATION:

Court Services and Offender Supervision Agency, 633 Indiana Avenue, NW., Washington, DC 20004.

CATEGORIES OF INDIVIDUALS COVERED BY THE SYSTEM:

Current and former employees of CSOSA.

CATEGORIES OF RECORDS IN THE SYSTEM:

These records contain information relating to the individual's name, social security number, age, sex, marital status, appointment, tenure, employment status and occupation series. These records also contain data as of the year to date and the most recent pay period with regard to leave earned, used and balances, withholdings and allotments to financial institutions.

AUTHORITY FOR MAINTENANCE OF THE SYSTEM:

5 U.S.C. 301; 44 U.S.C. 3101; 5 CFR 550.

PURPOSE(S):

Document employee salary, tax and related information and to track and document employee leave transfers, reinstatements and other leave issues.

ROUTINE USES OF RECORDS MAINTAINED IN THE SYSTEM, INCLUDING CATEGORIES OF USERS AND THE PURPOSES OF SUCH USES:

A. To provide information to a congressional member or D.C. City Council member from the record of an individual in response to an inquiry from that congressional member made at the request of the employee or contractor.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance; the execution of a security or suitability investigation or the classification of a job.

E. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA and who are covered by this system, including (but not limited to) decisions to effect any necessary remedial actions, e.g., debt collection activity, disciplinary and/or other appropriate personnel actions, and/or other law enforcement related actions, where appropriate.

F. To the appropriate Federal, state, local, foreign or other public authority responsible for investigating, prosecuting, enforcing or implementing a statute, rule, regulation, or order where CSOSA becomes aware of an indication of a violation or potential violation of civil or criminal law or regulation.

G. To disclose to the Office of Personnel Management in accordance with the agency's responsibility for evaluation and oversight of Federal personnel management.

H. To provide a copy of an employee's Department of the Treasury Form W-2, Wage and Tax Statement, to the state, city or other local jurisdiction which is authorized to tax the employee's compensation. The record will be provided in accordance with a withholding agreement between the state, city or other jurisdiction and the Department of the Treasury pursuant to 5 U.S.C. 5516, 5517 or 5520, or in response to a written request from an appropriate official of the taxing jurisdiction. The request must include a copy of the applicable statute or ordinance authorizing the taxation of compensation and should indicate whether the authority of the jurisdiction to tax their employee is based on a place of residence, place of employment or both.

I. To disclose information to the Department of Agriculture, National Finance Center to effect distribution of pay according to employee directions and other authorized purposes.

J. Release information to the Internal Revenue Service (IRS). Information contained in the system may be disclosed to the IRS to obtain taxpayer mailing addresses for the purpose of locating such taxpayer to collect or compromise a Federal claim against the taxpayer.

K. Information directly related to the identity of debtors and the history of claims contained in the system of records may be disclosed to consumer reporting agencies for the purpose of encouraging repayment of overdue debts. Such disclosures will be made only when a claim is overdue and only after due process steps have been taken to notify the debtor and give him or her a chance to meet the terms of the debt.

L. Information may be released about debtors to the U.S. Treasury or other Federal employers in order to effect salary or administrative offsets. Information contained in the system of records may be disclosed to an employer in order to effect salary or administrative offsets to satisfy a debt owed the United States by that person. Such disclosures will be made only when all procedural steps established by the Debt Collection Act have been taken.

M. To disclose information to contractors, grantees, experts, consultants or volunteers performing or working on a contract, service or job for CSOSA.

N. Information may be disclosed to the General Accounting Office during a records management audit or inspection pursuant to GAO's audit authority.

O. A record may be disclosed to the National Archives and Records Administration and to the General Services Administration during a records management inspection conducted under 44 U.S.C. 2904 and 2906.

DISCLOSURE TO CONSUMER REPORTING AGENCIES:

Disclosure to consumer reporting agencies under subsection (b)(12) of the Privacy Act. Disclosure may be made from this system to consumer reporting agencies as defined in the Debt Collection Act of 1982 (31 U.S.C. 3701 (a)(3)) or the Fair Credit Reporting Act (15 U.S.C. 1681a(f)).

POLICIES AND PRACTICES FOR STORING, RETRIEVING, ACCESSING, RETAINING, AND DISPOSING OF RECORDS IN THE SYSTEM:

STORAGE:

Information is stored in individual folders or on computer.

RETRIEVABILITY:

Information is retrieved by the name or personal identifier of the individual.

SAFEGUARDS:

This information is maintained on either a password protected computer or filed in a locked file cabinet in a private office.

RETENTION AND DISPOSAL:

Information is maintained and disposed of in accordance with General Records Schedule 2.

SYSTEM MANAGER(S) AND ADDRESS:

Associate Director, Office of Human Resources, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

(1) Individuals who are current or former employees of the agency; (2) information obtained from current and former employers; (3) National Finance Center.

EXEMPTIONS CLAIMED FOR THE SYSTEM:

None.

CSOSA-7

SYSTEM NAME:

Time and Attendance Records.

SECURITY CLASSIFICATION:

None.

SYSTEM LOCATION:

Court Services and Offender Supervision Agency, 633 Indiana Avenue, NW., Washington, DC 20004.

CATEGORIES OF INDIVIDUALS COVERED BY THE SYSTEM:

Current and former employees of CSOSA.

CATEGORIES OF RECORDS IN THE SYSTEM:

Time and attendance reports, leave slips and audit reports which contain the name, social security number, grade, leave category, leave balances and organization code.

AUTHORITY FOR MAINTENANCE OF THE SYSTEM:

5 CFR part 630.

PURPOSE(S):

To provide control, reporting and accounting for employee leave.

ROUTINE USES OF RECORDS MAINTAINED IN THE SYSTEM, INCLUDING CATEGORIES OF USERS AND THE PURPOSES OF SUCH USES:

A. To provide information to a congressional member or D.C. City Council member from the record of an individual in response to an inquiry from that congressional member made at the request of the employee or contractor.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance; the execution of a security or suitability investigation or the classification of a job.

E. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA and who are covered by this system, including (but not limited to) decisions to effect any necessary remedial actions, e.g., debt collection activity, disciplinary and/or other appropriate personnel actions, and/or other law enforcement related actions, where appropriate.

F. To the appropriate Federal, state, local, foreign or other public authority responsible for investigating, prosecuting, enforcing or implementing a statute, rule, regulation, or order where CSOSA becomes aware of an indication of a violation or potential violation of civil or criminal law or regulation.

G. To disclose to the Office of Personnel Management in accordance with the agency's responsibility for evaluation and oversight of Federal personnel management.

H. To disclose information to the Department of Agriculture, National Finance Center to effect maintenance of leave.

I. To disclose information to contractors, grantees, experts, consultants or volunteers performing or working on a contract, service or job for CSOSA.

J. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The information is stored manually in individual folders. Electronic access to the information is maintained on a password protected computer.

RETRIEVABILITY:

Information is retrieved by the name of the individual employee.

SAFEGUARDS:

Information is either locked in a file cabinet or in offices that are locked.

RETENTION AND DISPOSAL:

Information is maintained and disposed of in accordance with General Record Schedule 2.

SYSTEM MANAGER(S) AND ADDRESS:

Associate Director, Office of Human Resources, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

(1) Current or former employee; (2) current or former Time and Attendance personnel; (3) current or former employer; (4) National Finance Center staff.

EXEMPTIONS CLAIMED FOR THE SYSTEM:

None.

CSOSA-8

SYSTEM NAME:

Training Management System.

SECURITY CLASSIFICATION:

None.

SYSTEM LOCATION:

Court Services and Offender Supervision Agency, 633 Indiana Avenue, NW., Washington, DC 20004.

CATEGORIES OF INDIVIDUALS COVERED BY THE SYSTEM:

Current and former employees of the agency.

CATEGORIES OF RECORDS IN THE SYSTEM:

Records containing the type and dates of training programs for CSOSA employees.

AUTHORITY FOR MAINTENANCE OF THE SYSTEM:

5 U.S.C. 301.

PURPOSE(S):

To track individual employees and their training history, class schedules, attendance and to ensure prerequisites have been met.

ROUTINE USES OF RECORDS MAINTAINED IN THE SYSTEM, INCLUDING CATEGORIES OF USERS AND THE PURPOSES OF SUCH USES:

A. Information is maintained to assist in performing the administrative functions of the Training and Career Development Office and is used to prepare class directories, class rosters and statistical reports.

B. To provide information to a congressional or D.C. City Council member from the record of an individual in response to an inquiry from that congressional or D.C. City Council member made at the request of the employee or contractor.

C. To disclose information to contractors, grantees, experts, consultants or volunteers performing or working on a contract, service or job for CSOSA.

D. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is stored manually in individual file folders and electronically.

RETRIEVABILITY:

Information is retrieved by the name of the individual.

SAFEGUARDS:

The manual records are maintained in locked file cabinets and the automated portion is maintained on a password-protected computer

RETENTION AND DISPOSAL:

Information is maintained and disposed of in accordance with General Records Schedule 1.

SYSTEM MANAGER(S) AND ADDRESS:

Associate Director, Office of Human Resources, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

(1) Individuals who are now or were employees of the agency; (2) individuals from other Federal, state and local agencies, and (3) individuals from formally established schools who may train agency employees.

EXEMPTIONS CLAIMED FOR THE SYSTEM:

None.

CSOSA-9

SYSTEM NAME:

Supervision Offender Case File.

SECURITY CLASSIFICATION:

None.

SYSTEM LOCATION:

Court Services and Offender Supervision Agency, 633 Indiana Avenue, NW., Washington, DC 20004. See 28 CFR part 800, Appendix A for field office addresses.

CATEGORIES OF INDIVIDUALS COVERED BY THE SYSTEM:

Current and/or former District of Columbia offenders under parole, supervised release and/or probation supervision. These offenders were sentenced by the D.C. Superior Court.

CATEGORIES OF RECORDS IN THE SYSTEM:

The files may contain but are not limited to presentence information, sentencing information, institutional adjustment (parole only), treatment records, compliance orders, field notes, PD-163 (police report), judgment and commitment orders, program reports, psychiatric reports, assessments, Parole Board and judicial decisions and post-release information to include risk assessment, substance abuse testing, referrals, offender reporting forms, progress and behavior reports and correspondence.

AUTHORITY FOR MAINTENANCE OF THE SYSTEM:

5 U.S.C. 301.

PURPOSE(S):

Information is maintained and used to determine risk/needs assessment, supervision documentation, case management and documentation of the offenders' compliance with release conditions.

ROUTINE USES OF RECORDS MAINTAINED IN THE SYSTEM, INCLUDING CATEGORIES OF USERS AND THE PURPOSES OF SUCH USES:

A. Disclosure may be made to a congressional office or member or D.C. City Council member in response to an inquiry made at the request of a current or former offender under CSOSA supervision.

B. Information may be disclosed to any civil or criminal law enforcement agency, whether Federal, state, or local or foreign, which requires information relevant to a civil or criminal investigation unless prohibited by 42 CFR part 2.

C. To any source from which information is requested in the course of an investigation, to the extent necessary to identify the individual, inform the source of the nature and purpose of the investigation and to identify the type of information requested unless prohibited by 42 CFR part 2.

D. To the appropriate Federal, state, local, foreign or other public authority responsible for investigating, prosecuting, enforcing or implementing a statute, rule, regulation, or order where CSOSA becomes aware of an indication of a violation or potential violation of civil or criminal law or regulation unless prohibited by 42 CFR part 2.

E. To provide information source for contract or treatment facilities who provide services to offenders under CSOSA supervision to the extent necessary to accomplish their assigned duties unless prohibited by 42 CFR part 2.

F. To provide information relating to D.C. offenders to Federal, local and state courts, court personnel and probation officials to the extent necessary to accomplish their assigned duties unless prohibited by 42 CFR part 2.

G. To provide information to employers or prospective employers concerning an offender's criminal history and other pertinent information where there is a foreseeable risk of harm unless prohibited by 42 CFR part 2.

H. A record may be disclosed to the National Archives and Records Administration and to the General Services Administration during a records management inspection conducted under 44 U.S.C. 2904 and 2906 unless prohibited by 42 CFR part 2.

DISCLOSURE TO CONSUMER REPORTING AGENCIES:

None.

POLICIES AND PRACTICES FOR STORING, RETRIEVING, ACCESSING, RETAINING, AND DISPOSING OF RECORDS IN THE SYSTEM:

STORAGE:

Information is stored manually in file folders.

RETRIEVABILITY:

Information can be retrieved by the name of the offender or by the DC Department of Corrections (DCDC) number.

SAFEGUARDS:

Information is maintained manually in file cabinets which are kept in locked offices.

RETENTION AND DISPOSAL:

Information will be maintained for 20 years after expiration of parole and/or probation supervision.

SYSTEM MANAGER(S) AND ADDRESS:

Associate Director, Community Supervision Services, Court Services and Offender Supervision Agency, 300 Indiana Avenue, NW., Room 2132, Washington, DC 20001.

NOTIFICATION PROCEDURE:

Inquiries concerning this system should be directed to the Freedom of Information Act Office, Court Services and Offender Supervision Agency, 633 Indiana Avenue, NW., Washington, DC 20004. The major part of this system is exempt from this requirement under 5 U.S.C. 552a(j).

RECORDS ACCESS PROCEDURES:

The major part of this system is exempt from this requirement under 5 U.S.C. 552a(j). To the extent that this system of records is not subject to exemption, it is subject to access and contest. A determination as to exemption shall be made at the time a request for access is received.

CONTESTING RECORD PROCEDURES:

Same as Records access procedures above.

RECORD SOURCE CATEGORIES:

(1) Offender; (2) Federal, state and local law enforcement agencies; (3) state and Federal probation agencies; (4) relatives, friends, and other community individuals; (5) evaluation, observations, and findings of agency staff and treatment staff; and (6) employers and/or social service agencies.

EXEMPTIONS CLAIMED FOR THE SYSTEM:

This system is exempt from 5 U.S.C. 552a (c)(3) and (4), (d), (e)(1), (2), (3), (4)(G) through (4)(I), (5), and (8), (f) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-10

SYSTEM NAME:

Pre-sentence Investigations.

SECURITY CLASSIFICATION:

None.

SYSTEM LOCATION:

Court Services and Offender Supervision Agency, 633 Indiana Avenue, NW., Washington, DC 20004.

CATEGORIES OF INDIVIDUALS COVERED BY THE SYSTEM:

Current and/or former District of Columbia offenders under parole and/or probation supervision. These offenders were sentenced in the D.C. Superior Court.

CATEGORIES OF RECORDS IN THE SYSTEM:

Files contain but are not limited to D.C. Superior Court information, offender information, details of the casework performed by CSOSA staff and a completed copy of the pre-sentence report (investigation).

AUTHORITY FOR MAINTENANCE OF THE SYSTEM:

5 U.S.C. 301.

PURPOSE(S):

At the direction of a sentencing judge, criminal and social histories investigations of defendants are performed by staff to aid the judge in the disposition of the defendant's criminal case.

ROUTINE USES OF RECORDS MAINTAINED IN THE SYSTEM, INCLUDING CATEGORIES OF USERS AND THE PURPOSES OF SUCH USES:

A. Disclosure may be made to a congressional office or D.C. City Council member in response to an inquiry made at the request of a current and/or former offender, supervised by CSOSA.

B. Information may be disclosed to any civil or criminal law enforcement agency, whether Federal, state, local or foreign, which requires information relevant to a civil or criminal investigation.

C. To any source from which information is requested in the course of an investigation, to the extent necessary to identify the individual, inform the source of the nature and purpose of the investigation and to identify the type of information requested.

D. To the appropriate Federal, state, local, foreign or other public authority responsible for investigating, prosecuting, enforcing or implementing a statute, rule, regulation, or order where CSOSA becomes aware of an indication of a violation or potential violation of civil or criminal law or regulation.

E. To provide information source for contract or treatment facilities who provide services to offenders under CSOSA supervision to the extent necessary to accomplish their assigned duties.

F. To provide information relating to D.C. defendants to Federal, local and state courts, court personnel and probation officials to the extent necessary to accomplish their assigned duties.

G. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is stored manually in individual file folders or electronically on password protected computers or on microfilm.

RETRIEVABILITY:

Information is retrieved by the name of the individual, case number assigned or police department identification (PDID) number.

SAFEGUARDS:

Information is kept in a locked file room with access by authorized personnel only.

RETENTION AND DISPOSAL:

Information will be maintained for 20 years after expiration of parole and/or probation supervision.

SYSTEM MANAGER(S) AND ADDRESS:

Associate Director, Community Supervision Services, Court Services and Offender Supervision Agency, 300 Indiana Avenue, NW., Room 2132, Washington, DC, 20001.

NOTIFICATION PROCEDURE:

Inquiries concerning this system should be directed to the Freedom of Information Act Office, Court Services and Offender Supervision Agency, 633 Indiana Avenue, NW., Washington, DC 20004. The major part of this system is exempt from this requirement under 5 U.S.C. 552a(j).

RECORDS ACCESS PROCEDURES:

The major part of this system is exempt from this requirement under 5 U.S.C. 552a (j). To the extent that this system of records is not subject to exemption, it is subject to access and contest. A determination as to exemption shall be made at the time a request for access is received.

CONTESTING RECORD PROCEDURES:

Same as Records access procedures above.

RECORD SOURCE CATEGORIES:

(1) Offender; (2) Federal, state and local law enforcement agencies; (3) state and Federal probation agencies; (4) relatives, friends, and other community individuals; (5) evaluation, observations and findings of agency staff and treatment staff; and (6) employers, schools (primary and secondary), colleges/universities, social agencies and public defenders.

EXEMPTIONS CLAIMED FOR THE SYSTEM:

This system is exempt from 5 U.S.C. 552a (c)(3) and (4), (d), (e)(1), (2), (3), (4)(G) through (4)(I), (5), and (8), (f) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-11

SYSTEM NAME:

Supervision & Management Automated Record Tracking (SMART)

SECURITY CLASSIFICATION:

None

SYSTEM LOCATION:

Court Services and Offender Supervision Agency, 633 Indiana Avenue, NW., Washington, DC 20004.

CATEGORIES OF INDIVIDUALS COVERED BY THE SYSTEM:

Current and former offenders sentenced by the D.C. Superior Court and currently on parole and/or probation or supervised release.

CATEGORIES OF RECORDS IN THE SYSTEM:

1. Identification Data Records: Stores client's base record containing identification, socio-demographical and case status information (i.e., DCDC number, name, aliases, police department ID number, social security number, date of birth, current location, full term date, parole/probation/probation eligibility date, date of parole/probation or probation status, date off parole/probation or probation status.)

2. Substance Abuse Data Records: Stores substance abuse testing information on up to four illegal drugs for each client if applicable.

3. Release Data Records: Stores information on each time the client is released from D.C. Department of Corrections custody, if applicable.

4. Special Events Data Records: Stores special event information for each client while incarcerated through supervision until the sentence expires.

5. File Folder Tracking Data Records: Stores information on last time a client's case folder was checked out of the file room, by whom and for what reason.

6. Reports Received Data Records: Stores information on all reports received by the USPC and/or Superior Court except for Face Sheets, PV Face Sheets, Reports of Alleged Violations and Work Release Violations.

7. Work Release Violation Reports Data Records: Stores information on Work Release Violation reports received by the USPC and/or Superior Court.

8. Reports of Alleged Violations Data Records: Stores information on all Reports of Alleged Violations received by the USPC and/or Superior Court including date report prepared, and the state where alleged violations were committed.

9. Sentence Data Records: Stores information on new and updated Face Sheets (FS) received by the USPC and/or Superior Court including date update received, prepared, minimum aggregate sentence, maximum aggregate sentence, full term date, mandatory release/short term date parole/probation eligibility date, reason PED was changed, maximum supervision date.

10. Offense Data Record: Stores offense information listed on new Face Sheet received by the USPC and/or Superior Court including Court's case number, date sentenced, minimum sentence, maximum sentence, whether consecutive or concurrent sentence, type of sentence.

11. Detainer Data Records: Stores detainer information listed on Face Sheets received by the USPC and/or Superior Court including jurisdiction placing detainer, and the date detainer was logged.

12. Conduct Credit Data Records: Stores conduct credit information listed on Face Sheets received by the USPC and/or Superior Court including date started credit time, number of days credited, number of days forfeited, number of forfeited days restored, and remaining number of days balance.

13. Time Credit Data Records: Stores time credit information listed on new and updated Face Sheets received by the USPC and/or Superior Court including type of time credit, date time credit started, date time credit ended, and the number of days credited.

14. Parole/probation Violator Face Sheet Data Records: Stores information on Parole/probation Violator Face Sheets (PV-FS) received by the USPC and/or Superior Court including date PV-FS prepared, date PV-FS received, case number (assigned by the Court), full term date, mandatory release/short term date, maximum date of supervision, time owed, and the date warrant executed.

15. Hearing Calendar Data Records: Stores list of hearing and non-hearing events scheduled for USPC Members and Hearing Examiners. Include name of hearing official, date of event, and the docket number.

16. Hearing Data Records: Stores information on each client's scheduled hearing. A record is added to the file each time a client is scheduled for a hearing. Includes hearing docket number, type of consideration, the hearing outcome, the hearing recommendation, date case into office docket, and the date case came out of office docket.

17. Non-Hearing Data Records: Stores information each time a case is presented to the USPC through a non-hearing docket. Includes non-hearing docket number, date office docket prepared, date into office docket, date out of office docket, analyst who reviewed the case, type of consideration, outcome of the review, and the analyst's recommendation.

18. USPC and/or Superior Court Order Data Records: Stores USPC and/or Superior Court Order information for every case presented to the USPC and/or Superior Court for review thru a hearing or non-hearing docket. A minimum of one record is added to the file per case per docket. Includes disposition, date USPC and/or Superior Court made decision, and any special conditions/instructions.

19. Conditions Data Records: Stores information on special conditions and instructions imposed by the USPC and/or Superior Court, or a Community Supervision officer.

20. Parole/probation Certificates Data Records: Stores information on parole/probation certificates issued by the USPC and/or Superior Court. Only one certificate can be issued per USPC and/or Superior Court Order. Includes hearing/non-hearing docket number, date certificate was issued, and the type of certificate issued.

21. Parole/probation Plan Data Records: Stores information on parole/probation plan requested and plan status. When the USPC and/or Superior Court grant parole/probation, a record is added to the file if the DCDC number does not already exist. Otherwise, the existing record is updated. Includes type of plan requested, date plan was requested, person requested plan, and the plan/report due date.

22. Case Assignment Data Records: Stores parole/probation supervision case assignment information for each client granted parole/probation. When the USPC and/or Superior Court grant parole/probation, a record is added to the file if the DCDC number does not already exist. Otherwise, the existing record is updated. Includes parole/probation supervision unit assigned, date parole/probation unit assigned, community supervision officer (CSO) assigned, date CSO assigned, CSO's phone number, and the supervision level assigned.

23. Field Contact Data Records: Stores field supervision information for scheduled and unscheduled contacts between parolee/probationer and the CSO. Date CSO made contact. Includes type of contact, location where contact was established, and the purpose of contact.

24. Order to Appear for Revocation Data Records: Stores information on Orders to Appear for Revocation issued by the USPC and/or Superior Court on non-hearing cases presented for review. Includes date PDS issued OAR, hearing/non-hearing docket number, date PSS received OAR, date OAR sent to CSO, and the date served OAR returned to PDS.

25. OAR Contact Data Records: Stores information on attempts to service the OAR issued by the USPC and/or Superior Court.

26. Warrant Issued Data Records: Stores information on warrant issued by the USPC and/or Superior Court as a result of a Report of Alleged Violation.

27. Notice of Rights Data Records: Stores information on Notices Of Rights that must be served by the USPC and/or Superior Court as a result of a warrant being executed.

28. Housing Data Records: Stores residence information verified by parole/probation officers as part of a client's parole/probation plan and case supervision. Includes street address.

29. Job/Employment Data Records: Stores employment information verified by CSOs as part of a client's parole/probation plan and case supervision. For each job held, a record is added to the file. Includes job description and employer.

30. Programs Data Records: Stores information on academic, vocational and/or treatment programs in which the client enrolls/participates. Includes program name, date started program, date finished program, and the type of program.

31. Narcotics Data Records: Stores information on urine test surveillance program in which a client must participate as a condition for parole/probation. For each urine sample collected, a record is added to the file.

AUTHORITY FOR MAINTENANCE OF THE SYSTEM:

The District of Columbia parole/probation statute authorizes to USPC and/or Superior Court of Parole/probation (integrated into CSOSA on August 5, 1997 by the National Capital Revitalization and Self-Government Act—D.C. Code 24-1231) to determine if and when to terminate parole/probation or conditional release or to modify the terms or conditions of parole/probation or conditional release. Also see D.C. Code 24-201.2, D.C. Code 24-205, D.C. Code 24-201.3, 28 DCMR 217.x

PURPOSE(S):

Information maintained in the system is used to assist the Court Services and Offender Supervision Agency (CSOSA), USPC and/or Superior Court in monitoring the compliance with conditions of release of parolees, probationers, and supervised releasees, in measuring adjustment to and progress under community supervision and in protecting the safety of the public.

ROUTINE USES OF RECORDS MAINTAINED IN THE SYSTEM, INCLUDING CATEGORIES OF USERS AND THE PURPOSES OF SUCH USES:

Relevant information contained in this system of records may be disclosed as follows:

A. To a Member of Congress or congressional office staff member or D.C. Council member or D.C. Council office staff member in response to an inquiry made at the request of a current or former offender under CSOSA supervision.

B. To any civil or criminal law enforcement agency, whether Federal, state, or local or foreign, which requires information relevant to a civil or criminal investigation to the extent necessary to accomplish their assigned duties.

C. To any source from which information is requested in the course of an investigation, to the extent necessary to identify the individual, inform the source of the nature and purpose of the investigation and to identify the type of information requested.

D. To the appropriate Federal, state, local, foreign or other public authority responsible for investigating, prosecuting, enforcing or implementing a statute, rule, regulation, or order where CSOSA becomes aware of an indication of a violation or potential violation of civil or criminal law or regulation.

E. To Federal, state, and local authorities participating in the JUSTIS database system through database access to limited information to permit a determination of an individual's status on parole, probation, or supervised release and the assigned supervision officer to the extent necessary for the accomplishment of the participating authorities' assigned duties. The participants in the JUSTIS database that will have limited access to CSOSA's SMART information are the Federal Bureau of Prisons, the D.C. Department of Corrections, the D.C. Superior Court, the Metropolitan Police Department, the D.C. Pretrial Services Agency, the United States Attorney's Office for the District of Columbia, the United States Marshals Service, and the United States Parole Commission.

F. To provide an information source for contract or treatment facilities that provide services to offenders under CSOSA supervision to the extent necessary to accomplish their assigned duties.

G. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The SMART database and processing programs are hosted on servers, which are managed by CSOSA IT Staff. The system provides online data entry and query in a real-time fashion using preformatted input/output screens.

RETRIEVABILITY:

Information can be retrieved by name, DCDC number, PDID number, Social Security Number, FBI number, and Interstate Compact Number. 22

SAFEGUARDS:

The server room is locked; access to the servers are restricted and end users must have a valid User ID and password before they can gain access to the one processing program they have been authorized to use.

RETENTION AND DISPOSAL:

Information in this system will be destroyed 20 years after date of last entry.

SYSTEM MANAGER(S) AND ADDRESS:

Chief Technology Officer, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004. The major part of this system is exempt from this requirement under 5 U.S.C. 552a (j).

RECORDS ACCESS PROCEDURES:

The major part of this system is exempt from this requirement under 5 U.S.C. 552a(j). To the extent that this system of records is not subject to exemption, it is subject to access and contest. A determination as to exemption shall be made at the time a request for access is received.

CONTESTING RECORD PROCEDURES:

Same as Records access procedures above.

RECORD SOURCE CATEGORIES:

(1) Offender; (2) Federal, state and local law enforcement agencies; (3) state and Federal probation services; (4) relatives, friends, and other community individuals; (5) evaluation, observations and findings of agency staff and treatment staff.

EXEMPTIONS CLAIMED FOR THE SYSTEM:

This system is exempt from 5 U.S.C. 552a (c)(3) and (4), (d), (e)(1), (2), (3), (4)(G) through (4)(I), (5), and (8), (f) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-12

SYSTEM NAME:

Recidivism Tracking Database.

SECURITY CLASSIFICATION:

None.

SYSTEM LOCATION:

Court Services and Offender Supervision Agency, Community Supervision Services, 300 Indiana Avenue, NW., Washington, DC 20004.

CATEGORIES OF INDIVIDUALS COVERED BY THE SYSTEM:

Current and former offenders under agency supervision.

CATEGORIES OF RECORDS IN THE SYSTEM:

Name, police department identification number (PDID), DC Department of Corrections number (DCDC), type of supervision, offense code, docket number, source of information, pretrial release status, police service area and arrest and conviction information.

AUTHORITY FOR MAINTENANCE OF THE SYSTEM:

5 U.S.C. 301.

PURPOSE(S):

To track and detail all official incidents of recidivism by offenders under the jurisdiction of the agency.

ROUTINE USES OF RECORDS MAINTAINED IN THE SYSTEM, INCLUDING CATEGORIES OF USERS AND THE PURPOSES OF SUCH USES:

A. Disclosure may be made to a congressional office or D.C. City Council member in response to an inquiry made at the request of a current or former offender under CSOSA supervision.

B. Information may be disclosed to any civil or criminal law enforcement agency, whether Federal, state, or local or foreign, which requires information relevant to a civil or criminal investigation.

C. To any source from which information is requested in the course of an investigation, to the extent necessary to identify the individual, inform the source of the nature and purpose of the investigation and to identify the type of information requested.

D. To the appropriate Federal, state, local, foreign or other public authority responsible for investigating, prosecuting, enforcing or implementing a statute, rule, regulation, or order where CSOSA becomes aware of an indication of a violation or potential violation of civil or criminal law or regulation.

E. To provide information source for contract or treatment facilities who provide services to offenders under CSOSA supervision to the extent necessary to accomplish their assigned duties.

F. To provide information relating to D.C. offenders to Federal, local and state courts, court personnel and probation officials to the extent necessary to accomplish their assigned duties.

G. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is stored in paper format and electronically on a computer which is password protected.

RETRIEVEABILITY:

Information is retrieved by the name, DCDC or PDID number assigned to the individual.

SAFEGUARDS:

The electronic database is protected by a password and only authorized staff have access. Paper copies are maintained in a locked file cabinet.

Retention and disposal:

Records will be maintained for 20 years after expiration of sentence.

SYSTEM MANAGER(S) AND ADDRESS:

Associate Director, Community Supervision Services, Court Services and Offender Supervision Agency, 300 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To the extent that this system of records is not subject to exemption, it is subject to access and contest. A determination as to exemption shall be made at the time a request for access is received.

CONTESTING RECORD PROCEDURES:

Same as records access procedures above.

RECORD SOURCE CATEGORIES:

(1) Offender, (2) agency staff, (3) treatment facilities, (4) Federal, state and local law enforcement agencies, (5) U.S. Parole Commission and (6) Federal, state and local courts and court personnel.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-13

SYSTEM NAME:

Freedom of Information-Privacy Acts System.

SECURITY CLASSIFICATION:

None.

SYSTEM LOCATION:

Court Services and Offender Supervision Agency, 633 Indiana Avenue, NW., Washington, DC 20004.

CATEGORIES OF INDIVIDUALS COVERED BY THE SYSTEM:

(1) Individuals or organizations who have requested access to information pursuant to the Freedom of Information Act or Privacy Act; (2) individuals who have made a request to access or correct records pertaining to themselves; and (3) persons who, on behalf of another individual, have made a request to access or correct that individual's records.

CATEGORIES OF RECORDS IN THE SYSTEM:

(1) Records contain Freedom of Information Act and Privacy Act requests for CSOSA/PSA records requested and any other correspondence or internal memoranda related to the processing of these requests. Records will also contain such data as the name of requester, address of requester, subject of request. (2) Documents relevant to appeals and litigation under the Freedom of Information Act and Privacy Act.

AUTHORITY FOR MAINTENANCE OF THE SYSTEM:

5 U.S.C. 552 and 552a.

PURPOSE(S):

To assist CSOSA staff in carrying out their responsibilities under the Freedom of Information Act and the Privacy Act.

ROUTINE USES OF RECORDS MAINTAINED IN THE SYSTEM, INCLUDING CATEGORIES OF USERS AND THE PURPOSES OF SUCH USES:

A. Public information permitted to be released to the news media and the public may be made available unless it is determined that release of the specific information in the context of a particular case would constitute an unwarranted invasion of personal privacy.

B. Disclosure may be made to a congressional office, Member of Congress or member of the D.C. City Council in response to an inquiry made at the request of an employee, contractor, vendor or offender (current and/or former) employed by or under supervision of CSOSA and/or PSA.

C. Information may be disseminated to a Federal agency which furnished the record for the purpose of permitting a decision as to access or correction to be made by that agency or for the purpose of consulting with that agency as to the propriety of access or correction.

D. Records may be disseminated to any appropriate Federal, state, local or foreign agency for the purpose of verifying the accuracy of information submitted by an individual who has requested amendment or correction of records.

E. Release of information to the National Archives and Records Administration (NARA) and to the General Services Administration (GSA): A record may be disclosed to NARA and GSA in records management inspections conducted under the authority of 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Manual requests are stored in a locked file cabinet. Automated information is contained on a password-protected computer.

RETRIEVABILITY:

Requests are retrieved and filed under the name and/or personal identifier of the requester or subject of the request.

SAFEGUARDS:

Access to records is limited to CSOSA staff who have a need for the records to perform their official duties. Request files are stored in a locked file cabinet.

RETENTION AND DISPOSAL:

Records are retained and disposed of in accordance with General Records Schedule 14.

SYSTEM MANAGER(S) AND ADDRESS:

General Counsel, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual who corresponded with the agency. Requesters should also reasonably specify the record contents being sought. The address is the same as indicated in the Notification procedure.

CONTESTING RECORD PROCEDURES:

Contact the official at the address specified under Notification procedure above and reasonably identify the record and specify the information to be contested.

RECORD SOURCE CATEGORIES:

Information is derived from the individuals and/or companies making requests, the system of records searched in the process of responding to requests, and other agencies referring requests for access to or correction of records.

EXEMPTIONS CLAIMED FOR THE SYSTEM:

None. Although no exemption has been claimed for this system of records, certain information may be duplicative of records contained in another system of records which may have an exemption. In those circumstances, the exemption will still apply.

CSOSA-14

SYSTEM NAME:

Employment Profile, Database.

SECURITY CLASSIFICATION:

None.

SYSTEM LOCATION:

Court Services and Offender Supervision Agency (CSOSA), 633 Indiana Avenue, NW., Washington, DC 20004.

CATEGORIES OF INDIVIDUALS COVERED BY THE SYSTEM:

Current and former offenders under agency supervision.

CATEGORIES OF RECORDS IN THE SYSTEM:

Supervision information to include the police department identification number (PDID), DC Department of Corrections number (DCDC), social security number, phone number, address, conviction information, dates supervision begins and ends, education, restrictions, expenses, interests and needs of the offender.

AUTHORITY FOR MAINTENANCE OF THE SYSTEM:

5 U.S.C. 301.

PURPOSE(S):

To track the employment status of offenders. This information is examined to assess the number of employment slots needed for offenders.

ROUTINE USES OF RECORDS MAINTAINED IN THE SYSTEM, INCLUDING CATEGORIES OF USERS AND THE PURPOSES OF SUCH USES:

A. Disclosure may be made to a congressional office or D.C. City Council member in response to an inquiry made at the request of a current and/or former offender under CSOSA supervision.

B. Information may be disclosed to any civil or criminal law enforcement agency, whether Federal, state, or local or foreign, which requires information relevant to a civil or criminal investigation.

C. To any source from which information is requested in the course of an investigation, to the extent necessary to identify the individual, inform the source of the nature and purpose of the investigation and to identify the type of information requested.

D. To the appropriate Federal, state, local, foreign or other public authority responsible for investigating, prosecuting, enforcing or implementing a statute, rule, regulation, or order where CSOSA becomes aware of an indication of a violation or potential violation of civil or criminal law or regulation.

E. To provide information source for contract or treatment facilities who provide services to offenders under CSOSA supervision.

F. To provide information relating to D.C. defendants to Federal, local and state courts, court personnel and probation officials.

G. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is maintained electronically and manually.

RETRIEVABILITY:

Information can be retrieved by the name, social security number, PDID number or DCDC number.

SAFEGUARDS:

Electronic information is maintained on a password-protected computer. Manual information is maintained in a locked file cabinet in a secured office.

RETENTION AND DISPOSAL:

Records will be maintained for 20 years after expiration of sentence.

SYSTEM MANAGER(S) AND ADDRESS:

Associate Director, Community Justice Programs, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004. The major part of this system is exempt from this requirement under 5 U.S.C. 552a(j).

RECORDS ACCESS PROCEDURES:

The major part of this system is exempt from this requirement under 5 U.S.C. 552a(j). To the extent that this system of records is not subject to exemption, it is subject to access and contest. A determination as to exemption shall be made at the time a request for access is received.

CONTESTING RECORD PROCEDURES:

Same as Records access procedures above.

RECORD SOURCE CATEGORIES:

(1) Offender and (2) evaluation, observations and findings of agency staff.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-15

SYSTEM NAME:

Substance Abuse Treatment Database.

SECURITY CLASSIFICATION:

None.

SYSTEM LOCATION:

Court Services and Offender Supervision Agency (CSOSA), Community Supervision Services, 300 Indiana Avenue, NW., Washington, DC 20004.

CATEGORIES OF INDIVIDUALS COVERED BY THE SYSTEM:

Current and former offenders under the supervision of CSOSA.

CATEGORIES OF RECORDS IN THE SYSTEM:

Name, police department identification number (PDID), DC Department of Corrections number (DCDC), supervision status, date referred for treatment, social security number, FBI number, employment status, education level, date of birth, sex, race, reason for referral and drug test information.

AUTHORITY FOR MAINTENANCE OF THE SYSTEM:

5 U.S.C. 301.

PURPOSE(S):

To assist staff in tracking offenders through the treatment continuum.

ROUTINE USES OF RECORDS MAINTAINED IN THE SYSTEM, INCLUDING CATEGORIES OF USERS AND THE PURPOSES OF SUCH USES:

A. Disclosure may be made to a congressional office or D.C. City Council member in response to an inquiry made at the request of a current or former offender under CSOSA supervision.

B. Information may be disclosed to any civil or criminal law enforcement agency, whether Federal, state, or local or foreign, which requires information relevant to a civil or criminal investigation unless prohibited by 42 CFR part 2.

C. To any source from which information is requested in the course of an investigation, to the extent necessary to identify the individual, inform the source of the nature and purpose of the investigation and to identify the type of information requested unless prohibited by 42 CFR part 2.

D. To the appropriate Federal, state, local, foreign or other public authority responsible for investigating, prosecuting, enforcing or implementing a statute, rule, regulation, or order where CSOSA becomes aware of an indication of a violation or potential violation of civil or criminal law or regulation unless prohibited by 42 CFR part 2.

E. To provide information source for contract or treatment facilities who provide services to offenders under CSOSA supervision unless prohibited by 42 CFR part 2.

F. To provide information relating to D.C. defendants to Federal, local and state courts, court personnel and probation officials unless prohibited by 42 CFR part 2.

G. A record may be disclosed to the National Archives and Records Administration and to the General Services Administration during a records management inspection conducted under 44 U.S.C. 2904 and 2906 unless prohibited by 42 CFR part 2.

DISCLOSURE TO CONSUMER REPORTING AGENCIES:

None.

POLICIES AND PRACTICES FOR STORING, RETRIEVING, ACCESSING, RETAINING, AND DISPOSING OF RECORDS IN THE SYSTEM:

STORAGE:

Information is maintained electronically and manually.

RETRIEVABILITY:

Information can be retrieved by the name of the offender or DCDC or PDID number assigned to the offender.

SAFEGUARDS:

Electronic information is stored on a password-protected computer.

RETENTION AND DISPOSAL:

Records will be maintained for 20 years after expiration of supervision.

SYSTEM MANAGER(S) AND ADDRESS:

Associate Director, Community Supervision Services, Court Services and Offender Supervision Agency, 300 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

The major part of this system is exempt from this requirement under 5 U.S.C. 552a(j). To the extent that this system of records is not subject to exemption, it is subject to access and contest. A determination as to exemption shall be made at the time a request for access is received.

CONTESTING RECORD PROCEDURES:

Same as Records access procedures above.

RECORD SOURCE CATEGORIES:

(1) Offender; (2) evaluation, observations and findings of agency staff and treatment staff.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-16

SYSTEM NAME:

Screener Database.

SECURITY CLASSIFICATION:

None.

SYSTEM LOCATION:

Court Services and Offender Supervision Agency (CSOSA), 633 Indiana Avenue, NW., Washington, DC 20004.

CATEGORIES OF INDIVIDUALS COVERED BY THE SYSTEM:

Current and former offenders under CSOSA supervision.

CATEGORIES OF RECORDS IN THE SYSTEM:

Name, police department identification number (PDID), DC Department of Corrections number (DCDC), social security number, date of birth, race, sex, type of supervision, offense code, age, education, home address, employment information, criminal history, history of substance abuse and level of supervision.

AUTHORITY FOR MAINTENANCE OF THE SYSTEM:

5 U.S.C. 301.

PURPOSE(S):

To track and detail all screeners (risk assessments) conducted on offenders under the agency's supervision.

ROUTINE USES OF RECORDS MAINTAINED IN THE SYSTEM, INCLUDING CATEGORIES OF USERS AND THE PURPOSES OF SUCH USES:

A. Disclosure may be made to a congressional office or D.C. City Council member in response to an inquiry made at the request of a current or former offender under CSOSA supervision.

B. Information may be disclosed to any civil or criminal law enforcement agency, whether Federal, state, or local or foreign, which requires information relevant to a civil or criminal investigation unless prohibited by 42 CFR part 2.

C. To any source from which information is requested in the course of an investigation, to the extent necessary to identify the individual, inform the source of the nature and purpose of the investigation and to identify the type of information requested unless prohibited by 42 CFR part 2.

D. To the appropriate Federal, state, local, foreign or other public authority responsible for investigating, prosecuting, enforcing or implementing a statute, rule, regulation, or order where CSOSA becomes aware of an indication of a violation or potential violation of civil or criminal law or regulation unless prohibited by 42 CFR part 2.

E. To provide information source for contract or treatment facilities who provide services to offenders under CSOSA supervision to the extent necessary to accomplish their assigned duties unless prohibited by 42 CFR part 2.

F. To provide information relating to D.C. offenders to Federal, local and state courts, court personnel and probation officials to the extent necessary to accomplish their assigned duties unless prohibited by 42 CFR part 2.

G. A record may be disclosed to the National Archives and Records Administration and to the General Services Administration during a records management inspection conducted under 44 U.S.C. 2904 and 2906 unless prohibited by 42 CFR part 2.

DISCLOSURE TO CONSUMER REPORTING AGENCIES:

None.

POLICIES AND PRACTICES FOR STORING, RETRIEVING, ACCESSING, RETAINING, AND DISPOSING OF RECORDS IN THE SYSTEM:

STORAGE:

Information is stored electronically at the University of Maryland, 4511 Knox Road, Suite 301, College Park, MD 20740 and paper copies are stored in a locked file and in the offender's supervision file.

RETRIEVABILITY:

Information can be retrieved by the name of the offender and the DCDC or PDID assigned to the offender.

SAFEGUARDS:

Paper copies are maintained in locked files in locked offices, accessible only by unique employee numeric code.

RETENTION AND DISPOSAL:

Records will be maintained for 20 years after expiration of sentence.

SYSTEM MANAGER(S) AND ADDRESS:

Associate Director, Community Justice Programs, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

The major part of this system is exempt from this requirement under 5 U.S.C. 552a(j). To the extent that this system of records is not subject to exemption, it is subject to access and contest. A determination as to exemption shall be made at the time a request for access is received.

CONTESTING RECORD PROCEDURES:

Same as Records access procedures above.

RECORD SOURCE CATEGORIES:

(1) Offender; (2) Federal, state and local law enforcement agencies; (3) state and Federal probation services; (4) evaluation, observations and findings of agency staff and treatment staff.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-17

SYSTEM NAME:

Office of Professional Responsibility Record.

SECURITY CLASSIFICATION:

None.

SYSTEM LOCATION:

Court Services and Offender Supervision Agency, 633 Indiana Avenue, NW., Washington, DC 20004.

CATEGORIES OF INDIVIDUALS COVERED BY THE SYSTEM:

In connection with its investigative duties, the Office of Professional Responsibility (OPR) will maintain records on the following categories of individuals:

(1) Individuals or entities who are or have been the subject of inquiries or investigations conducted by OPR including current or former employees; current and former consultants, contractors and subcontractors with whom the agency has contracted and their employees; and such other individuals or entities in association with CSOSA as it relates to alleged violation(s) of CSOSA's rules of conduct, the Civil Service merit system, and/or criminal or civil law, which may affect the integrity or physical facilities of CSOSA; and (2) Individuals who are witnesses; complainants; confidential or nonconfidential informants; and parties who have been identified by CSOSA or by other agencies, by constituent units of CSOSA, or by members of the general public as potential subjects of or parties to an investigation under the jurisdiction of OPR.

CATEGORIES OF RECORDS IN THE SYSTEM:

Information relating to investigations, including: (1) Letters, memoranda and other documents citing complaints of alleged criminal, civil or administrative misconduct; and (2) Investigative files which include: reports of investigations to resolve allegations of misconduct or violations of law with related exhibits, statements, affidavits or records obtained during investigations; prior criminal or noncriminal records of individuals as they relate to the investigations; reports from or to other law enforcement bodies; information obtained from informants and identifying data with respect to such informants; nature of allegations made against suspects and identifying data concerning such subjects; and public source materials.

AUTHORITY FOR MAINTENANCE OF THE SYSTEM:

5 U.S.C. 301.

PURPOSE(S):

The Office of Professional Responsibility (OPR) for the Court Services and Offender Supervision Agency (CSOSA) will maintain this system of records in order to conduct its responsibilities pursuant to 5 U.S.C. 301. The OPR is directed to conduct and supervise investigations relating to programs and operations of CSOSA; to promote economy, efficiency, and effectiveness in the administration of such programs and operations; and to prevent and detect fraud, waste and abuse in such programs and operations. Accordingly, the records in this system are used in the course of investigating individuals and entities suspected of having committed illegal or unethical acts and in conducting related criminal prosecutions, civil proceedings or administrative actions.

ROUTINE USES OF RECORDS MAINTAINED IN THE SYSTEM, INCLUDING CATEGORIES OF USERS AND THE PURPOSES OF SUCH USES:

Records in this system may be disclosed as follows:

A. In the event that records indicate a violation or potential violation of law, whether civil, criminal or regulatory in nature, and whether arising by general statute or particular program statute, or by rule, regulation, or other pursuant thereto, or if records indicate a violation or potential violation of a contract, the relevant records may be disclosed to the appropriate agency, whether Federal, state, local, foreign or international, charged with the responsibility of investigating or prosecuting such violation, enforcing or implementing such statute, rule, regulation or order, or with enforcing such contract.

B. A record may be disclosed to a Federal, state, local, foreign or international agency, or to an individual or organization when necessary to elicit information which will assist an investigation, inspection or audit.

C. A record may be disclosed to a Federal, state, local, foreign or international agency maintaining civil, criminal or other relevant information if necessary to obtain information relevant to an OPR decision concerning the assignment, hiring or retention of an individual, the issuance or revocation of a security clearance, the reporting of an investigation of an individual, the letting of a contract, or the issuance or revocation of a license, grant or other benefit.

D. A record may be disclosed to a Federal, state, local, foreign or international agency in response to its request in connection with the assignment, hiring or retention of an individual, the issuance or revocation of a security clearance, the reporting of an investigation of an individual, letting of a contract or the issuance or revocation of a license, grant, or other benefit by the requesting agency to the extent that the information is relevant and necessary to the requesting agency's decision on the matter.

E. A record may be disclosed to a Member of Congress or D.C. City Council member or staff acting upon the Member's behalf when the Member or staff requests the information on behalf of, and the request of, the individual who is the subject of the record.

F. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA and who are covered by this system, including (but not limited to) decisions to effect any necessary remedial actions, e.g., debt collection activity, disciplinary and/or other appropriate personnel actions, and/or other law enforcement related actions, where appropriate.

G. To provide relevant information to Federal, local, state and foreign courts, court personnel and probation officials.

H. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information in this system is stored manually in file jackets in a locked, fireproof safe and electronically on a password-protected computer.

RETRIEVABILITY:

Entries are arranged numerically and/or alphabetically and are retrieved with reference to the surname of the individual covered by this system of records or the assigned case number.

SAFEGUARDS:

Information and/or manual records are stored in a locked, fireproof safe and office automation equipment in a secured office and accessed only by authorized personnel.

RETENTION AND DISPOSAL:

Records in this system are retained and disposed of 10 years after final review.

SYSTEM MANAGER(S) AND ADDRESS:

Director, Office of Professional Responsibility, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004. The Director of the Court Services and Offender Supervision Agency has exempted this system from the provisions of 5 U.S.C. 552a (e)(4)(G).

RECORDS ACCESS PROCEDURES:

The major part of this system is exempted from this requirement pursuant to 5 U.S.C. 552a(j)(2) and (k)(2). To the extent that this system of records is not subject to exemption, it is subject to access. A determination as to exemption shall be made at the time a request for access is received. A request for access to records contained in this system shall be made in writing. Include in this request the full name of the individual involved, his or her current address, date and place of birth, notarized signature, and any other identifying number or information which may be of assistance in locating the record. The requester shall also provide a return address for transmitting the information.

CONTESTING RECORD PROCEDURES:

The major part of this system is exempted from this requirement pursuant to 5 U.S.C. 552a(j)(2) and (k)(2). To the extent that this system of records is not subject to exemption, it is subject to access and contest. A determination as to exemption shall be made at the time a request for contest is received. Requesters shall clearly and concisely state which information is being contested, the reason for contesting it and the proposed amendment to the information.

RECORD SOURCE CATEGORIES:

The subjects of the investigations; individuals with whom the subjects of investigations are associated; current and former CSOSA employees; officials of Federal, state, local and foreign law enforcement and non-law enforcement agencies; private citizens, witnesses; confidential and nonconfidential informants; and public source materials.

EXEMPTIONS CLAIMED FOR THE SYSTEM:

The Director has exempted this system from subsections (c)(3) and (4), (d), (e)(1) through (e)(3), (4)(H), (5) and (8) and (g) of the Privacy Act pursuant to 5 U.S.C. 552a (j)(2). In addition, the system has been exempted from subsections (c)(3), (d) and (e)(1) pursuant to subsections (k)(2). Rules have been promulgated in accordance with the requirements of 5 U.S.C. 553(b), (c) and (e) and have been published in the Federal Register.

CSOSA-18

SYSTEM NAME:

Sex Offender Registry.

SECURITY CLASSIFICATION:

None.

SYSTEM LOCATION:

Court Services and Offender Supervision Agency, Community Supervision Services, 300 Indiana Avenue, NW., Washington, DC 20004.

CATEGORIES OF INDIVIDUALS COVERED BY THE SYSTEM:

Current and/or former sex offenders, sentenced by a court in the District of Columbia and those offenders sentenced as a sex offender in other jurisdictions who live, work or attend school within the District of Columbia.

CATEGORIES OF RECORDS IN THE SYSTEM:

Personal and identifying information, including, but not limited to, photograph, fingerprints, physical description and identifying marks or characteristics, aliases, identifying numbers assigned by law enforcement agencies, home, work and school address, type of automobile owned by offender, criminal history, crime for which offender was convicted, the official version of the offense and the presentence report, the sentence that was imposed and when the offender was released into the community.

AUTHORITY FOR MAINTENANCE OF THE SYSTEM:

National Capital Revitalization and Self-Government Improvement Act of 1997, Pub. L. 105-33, sections 11231-11234 and sections 11271-11280 as amended by the District of Columbia Appropriations Act, 2000, and the District of Columbia Sex Offender Registration Act of 1999, 24 DC Code Sections 1117-1137.

PURPOSE(S):

Pursuant to delegation by Congress, the Court Services and Offender Supervision Agency will exercise the powers and functions for the District of Columbia relating to sex offender registration as provided in the District of Columbia Sex Offender Registration Act of 1999.

ROUTINE USES OF RECORDS MAINTAINED IN THE SYSTEM, INCLUDING CATEGORIES OF USERS AND THE PURPOSES OF SUCH USES:

A. Disclosure may be made to a congressional office or D.C. City Council member in response to an inquiry made at the request of a current and/or former offender under CSOSA supervision.

B. Information may be disclosed to any civil or criminal law enforcement agency, whether Federal, state, or local or foreign, which requires information relevant to a civil or criminal investigation.

C. To any source from which information is requested in the course of an agency investigation, to the extent necessary to identify the individual, inform the source of the nature and purpose of the investigation and to identify the type of information requested.

D. To the appropriate Federal, state, local, foreign or other public authority responsible for investigating, prosecuting, enforcing or implementing a statute, rule, regulation, or order where CSOSA becomes aware of an indication of a violation or potential violation of civil or criminal law or regulation.

E. To provide information source for contract or treatment facilities who provide services to offenders under CSOSA supervision to the extent necessary to accomplish their assigned duties.

F. To provide information relating to D.C. defendants to Federal, local and state courts, court personnel, pretrial, parole and/or probation officials to the extent necessary to accomplish their assigned duties.

G. To provide information to Federal, state and local law enforcement agencies responsible for monitoring, enforcing and/or implementing a Federal, state or local statute or regulation related to sex offenders.

H. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is maintained in individual file folders and electronically on a password-protected computer.

RETRIEVABILITY:

Information can be retrieved by the name and/or personal identifier assigned to the offender.

SAFEGUARDS:

Information is maintained manually in a locked file cabinet and electronic information is maintained on a password-protected computer with limited access.

RETENTION AND DISPOSAL:

Records will be maintained until the death of the individual.

SYSTEM MANAGER(S) AND ADDRESS:

Associate Director, Community Supervision Services, Court Services and Offender Supervision Agency, 300 Indiana Avenue, NW., Room 2132, Washington, DC 20004.

NOTIFICATION PROCEDURE:

Inquiries concerning this system should be directed to the Freedom of Information Act Office, Court Services and Offender Supervision Agency, 633 Indiana Avenue, NW., Washington, DC 20004. The major part of this system is exempt from this requirement under 5 U.S.C. 552a (j).

RECORDS ACCESS PROCEDURES:

The major part of this system is exempt from this requirement under 5 U.S.C. 552a (j). To the extent that this system of records is not subject to exemption, it is subject to access and contest. A determination as to exemption shall be made at the time a request for access is received.

CONTESTING RECORD PROCEDURES:

Same as Records access procedures above.

RECORD SOURCE CATEGORIES:

(1) Offender; (2) Federal, state and local law enforcement agencies; (3) state and Federal parole or probation services; (4) Federal, state and local courts or court personnel.

EXEMPTIONS CLAIMED FOR THE SYSTEM:

This system is exempt from 5 U.S.C. 552a (c)(3) and (4), (d), (e)(1), (2), (3), (4)(G) through (4)(I), (5), and (8), (f) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA-19

SYSTEM NAME:

Drug Free Workplace Program.

SECURITY CLASSIFICATION:

None.

SYSTEM LOCATION:

Court Services and Offender Supervision Agency, 633 Indiana Avenue, NW., Washington, DC 20004.

CATEGORIES OF INDIVIDUALS COVERED BY THE SYSTEM:

The two systems (Drug Free Workplace Program Files and Drug Free Workplace Program Database) maintain records of each individual who has provided a urine specimen for testing. It also includes employees determined by the Agency to fill a designated testing position subject to random urinalysis testing as well as individuals who have volunteered to be part of the random pool.

CATEGORIES OF RECORDS IN THE SYSTEM:

Each record contains the name, social security number, date of birth as well as the collection information, reason for testing, types of drugs tested for and laboratory results.

AUTHORITY FOR MAINTENANCE OF THE SYSTEM:

Executive Order 12564, Drug-Free Federal Workplace.

PURPOSE(S):

The information is used to make employment or continued employment determinations. The database is used to randomly select individuals for urinalysis testing.

ROUTINE USES OF RECORDS MAINTAINED IN THE SYSTEM, INCLUDING CATEGORIES OF USERS AND THE PURPOSES OF SUCH USES:

A. Disclosure may be made to a congressional office or D.C. City Council member in response to an inquiry made at the request of an employee or contractor employed by CSOSA.

B. Information may be disclosed to any civil or criminal law enforcement agency, whether Federal, state, or local or foreign, which requires information relevant to a civil or criminal investigation.

C. Information may be disclosed to officials and employees of any Federal agency which requires information relevant to an agency decision concerning the hiring, appointment or retention of an employee; the issuance of a security clearance; the execution of a security or suitability investigation or the classification of a job.

D. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by CSOSA and who are covered by this system, including (but not limited to) decisions to effect any necessary remedial actions, e.g., debt collection activity, disciplinary and/or other appropriate personnel actions, and/or other law enforcement related actions, where appropriate.

E. To the appropriate Federal, state, local, foreign or other public authority responsible for investigating, prosecuting, enforcing or implementing a statute, rule, regulation, or order where CSOSA becomes aware of an indication of a violation or potential violation of civil or criminal law or regulation.

F. To disclose information to contractors, grantees, experts, consultants or volunteers performing or working on a contract, service or job for CSOSA.

G. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is either stored in locked bar file cabinets fitted with combination locks or stored on a stand-alone computer in a room which is protected by a control access device.

RETRIEVABILITY:

The information is retrieved by the name of the individual or by the assigned drug test control number.

SAFEGUARDS:

Information is limited to those agency employees with a need-to-know and is stored in an office protected by a control access device.

RETENTION AND DISPOSAL:

Information is maintained in accordance with General Records Schedule 1.

SYSTEM MANAGER(S) AND ADDRESS:

Associate Director, Management and Administration, Court Services and Offender Supervision Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

The information provided or verified by applicants or employees whose files are on record as authorized.

EXEMPTIONS CLAIMED FOR THE SYSTEM:

None.

CSOSA/PSA-1

SYSTEM NAME:

Automated Bail Agency Database (ABA DABA).

SECURITY CLASSIFICATION:

None.

System location:

Court Services and Offender Supervision Agency, Pretrial Services Agency, 633 Indiana Avenue, NW., Washington, DC 20004. The database is housed at the Metropolitan Police Department, 300 Indiana Avenue, NW., and the application is used at the following locations: 633, 601, 500 and 300 Indiana Avenue, NW., and 333 Constitution Avenue, NW., Washington, DC.

CATEGORIES OF INDIVIDUALS COVERED BY THE SYSTEM:

Defendants charged with federal and local misdemeanor and felony charges, municipal violations and traffic offenses in the District of Columbia.

CATEGORIES OF RECORDS IN THE SYSTEM:

Information includes defendants' personal, health and demographic information, criminal histories, substance abuse information and defendants' personal references.

AUTHORITY FOR MAINTENANCE OF THE SYSTEM:

5 U.S.C. 301 and the National Capital Revitalization and Self-Government Improvement Act of 1997, Pub. L. 105-33, Sections 11231-11234 and Sections 11271-11280.

PURPOSE(S):

Information is used to set bail, provide substance abuse treatment, monitor compliance with release conditions, report compliance with and violations of release conditions and assist with sentencing decisions.

ROUTINE USES OF RECORDS MAINTAINED IN THE SYSTEM, INCLUDING CATEGORIES OF USERS AND THE PURPOSES OF SUCH USES:

A. Disclosure may be made to a congressional office member in response to an inquiry made at the request of a current or former offender under CSOSA/PSA supervision.

B. Information may be disclosed to any civil or criminal law enforcement agency, whether Federal, state, or local or foreign, which requires information relevant to disposition of a criminal justice matter in accordance with 42 CFR 2.35.

C. To provide information, except substance abuse and mental health treatment information, relating to D.C. defendants to Federal, local and state courts, court personnel, prosecutors, defense attorneys and/or corrections, parole, other pretrial and probation officials.

D. To provide information source for contract or treatment facilities who provide services to defendants under PSA supervision (except substance abuse and mental health treatment information).

E. To provide information to the attorney on record for the defendant (except substance abuse and mental health treatment information).

F. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is currently stored on the Metropolitan Police Department's mainframe.

RETRIEVABILITY:

Information can be retrieved by the name of the individual, aliases, PDID, Bail Agency ID (BAID) number, case docket number and Bail Agency Case Entry (BACE) number.

SAFEGUARDS:

Information is maintained in a building which has 24-hour security.

RETENTION AND DISPOSAL:

Information will be retained for 20 years after disposition of charge(s).

SYSTEM MANAGER(S) AND ADDRESS:

Director, Pretrial Services Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

The major part of this system is exempt from this requirement under 5 U.S.C. 552a (j). To the extent that this system of records is not subject to exemption, it is subject to access and contest. A determination as to exemption shall be made at the time a request for access is received.

CONTESTING RECORD PROCEDURES:

Same as Records access procedures above.

RECORD SOURCE CATEGORIES:

(1) Defendant; (2) Federal, state and local law enforcement agencies; (3) local, state and Federal corrections; (4) Federal, state and local probation, parole and pretrial services; (5) relatives, friends, and other community individuals; (6) evaluation, observations and findings of agency staff, treatment staff and other social service agencies/staff.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA/PSA-2

SYSTEM NAME:

Drug Test Management System (DTMS).

SECURITY CLASSIFICATION:

None.

SYSTEM LOCATION:

Court Services and Offender Supervision Agency, Pretrial Services Agency (PSA), 633 Indiana Avenue, NW., Washington, DC 20004. The main server is located at 500 Indiana Avenue, NW., Room C-225 and the application is on workstations at all PSA and Community Supervision Services locations.

CATEGORIES OF INDIVIDUALS COVERED BY THE SYSTEM:

Individuals charged with federal and local misdemeanor and felony charges, municipal violations and traffic offenses in the District of Columbia and on probation and parole for local offenses.

CATEGORIES OF RECORDS IN THE SYSTEM:

Substance abuse testing and treatment information.

AUTHORITY FOR MAINTENANCE OF THE SYSTEM:

National Capital Revitalization and Self-Government Improvement Act of 1997, Pub. L. 105-33, sections 11231-11234 and Sections 11271-11260 and 5 U.S.C. 301.

PURPOSE(S):

Information is used to determine bail, make recommendations for sentencing, provide substance abuse treatment, monitor compliance with release conditions and report compliance with and violations of release conditions.

ROUTINE USES OF RECORDS MAINTAINED IN THE SYSTEM, INCLUDING CATEGORIES OF USERS AND THE PURPOSES OF SUCH USES:

A. Disclosure may be made to a congressional office in response to an inquiry made at the request of a current and/or former offender/defendant under CSOSA/PSA supervision.

B. Information may be disclosed to any civil or criminal law enforcement agency, whether Federal, state, or local or foreign, which requires information relevant to disposition of a criminal justice matter in accordance with 42 CFR 2.35.

C. To provide information relating to D.C. defendants and offenders to Federal, local and state courts, court personnel, prosecutors, defense attorneys, corrections, probation, parole and other pretrial officials (except substance abuse and mental health treatment information).

D. To provide information source for contract or treatment facilities who provide services to defendants under PSA supervision (except substance abuse and mental health treatment information).

E. To provide information to the attorney of record for the defendant (except substance abuse and mental health treatment information).

F. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Electronic information is maintained on a computer which is password-protected and accessed by the personal identifier assigned.

RETRIEVABILITY:

Information can be retrieved by the name of the individual, aliases and PDID, temporary ID numbers and by an “A” number.

SAFEGUARDS:

Information is maintained on a password-protected computer.

RETENTION AND DISPOSAL:

Records will be retained for 20 years after disposition of charge(s).

SYSTEM MANAGER(S) AND ADDRESS:

Director, Pretrial Services Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

The major part of this system is exempt from this requirement under 5 U.S.C. 552a (j). To the extent that this system of records is not subject to exemption, it is subject to access and contest. A determination as to exemption shall be made at the time a request for access is received.

CONTESTING RECORD PROCEDURES:

Same as Records access procedures above.

RECORD SOURCE CATEGORIES:

(1) Defendant and Offender, (2) treatment facility staff, (3) Federal, state and local law enforcement agencies.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA/PSA-3

SYSTEM NAME:

Interview and Treatment Files.

SECURITY CLASSIFICATION:

None.

SYSTEM LOCATION:

Court Services and Offender Supervision Agency, Pretrial Services Agency, 633 Indiana Avenue, NW., Washington, DC 20004, 500 Indiana Avenue, NW., 601 Indiana Avenue, NW., 300 Indiana Avenue, NW., and 333 Constitution Avenue, NW.

CATEGORIES OF INDIVIDUALS COVERED BY THE SYSTEM:

Defendants charged with federal and local misdemeanor and felony charges, municipal violations and traffic offenses in the District of Columbia.

CATEGORIES OF RECORDS IN THE SYSTEM:

Interview information, criminal history and treatment assessments.

AUTHORITY FOR MAINTENANCE OF THE SYSTEM:

5 U.S.C. 301.

PURPOSE(S):

Information is used to determine bail, provide substance abuse treatment, monitor compliance with release conditions and report compliance with and violations of release conditions.

ROUTINE USES OF RECORDS MAINTAINED IN THE SYSTEM, INCLUDING CATEGORIES OF USERS AND THE PURPOSES OF SUCH USES:

A. Disclosure may be made to a congressional office in response to an inquiry made at the request of a current and/or former offender/defendant under CSOSA supervision.

B. Information may be disclosed to any civil or criminal law enforcement agency, whether Federal, state, or local or foreign, which requires information relevant to disposition of a criminal justice matter in accordance with 42 CFR 2.35.

C. To provide information relating to D.C. defendants to Federal, local and state courts, court personnel, prosecutors, defense attorneys, and corrections, probation, parole and/or other pretrial officials except substance abuse and mental health treatment information.

D. To provide information source for contract or treatment facilities who provide services to defendants under PSA supervision (except substance abuse and mental health treatment information).

E. To provide information to the attorney on record for the defendant (except substance abuse and mental health treatment information).

F. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Manual files (paper copies) are maintained in locked file cabinets.

RETRIEVABILITY:

Information can be retrieved by the name of the individual or by the Bail Agency Case Entry (BACE) number.

SAFEGUARDS:

Files are kept in locked drawers and behind locked doors.

RETENTION AND DISPOSAL:

Records will be retained for 5 years after disposition of charge(s).

SYSTEM MANAGER(S) AND ADDRESS:

Director, Pretrial Services Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

The major part of this system is exempt from this requirement under 5 U.S.C. 552a(j). To the extent that this system of records is not subject to exemption, it is subject to access and contest. A determination as to exemption shall be made at the time a request for access is received.

CONTESTING RECORD PROCEDURES:

Same as Records access procedures above.

RECORD SOURCE CATEGORIES:

(1) Defendant, (2) Federal and local law enforcement agencies, (3) family and friends, (4) substance abuse treatment and medical facilities, and (5) Federal and local courts, (6) Federal, state and local corrections, pretrial, probation and parole agencies, and (7) evaluation, observations and findings of agency staff, treatment staff and other social service agencies.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

CSOSA/PSA-4

SYSTEM NAME:

Payroll Files.

SECURITY CLASSIFICATION:

None.

SYSTEM LOCATION:

Court Services and Offender Supervision Agency, Pretrial Services Agency, 633 Indiana Avenue, NW., Washington, DC 20004.

CATEGORIES OF INDIVIDUALS COVERED BY THE SYSTEM:

Current and former employees of PSA.

CATEGORIES OF RECORDS IN THE SYSTEM:

These records contain information relating to the individual's name, social security number, age, sex, marital status, appointment, tenure, employment status and occupation series. These records also contain data as of the year to date and the most recent pay period with regard to leave earned, used and balances, withholdings and allotments to financial institutions.

AUTHORITY FOR MAINTENANCE OF THE SYSTEM:

44 U.S.C. 3101 and 5 CFR part 550.

PURPOSE(S):

Document employee salary, tax and related information.

ROUTINE USES OF RECORDS MAINTAINED IN THE SYSTEM, INCLUDING CATEGORIES OF USERS AND THE PURPOSES OF SUCH USES:

A. To provide information to a congressional member from the record of an individual in response to an inquiry from that congressional member made at the request of the employee.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance; the execution of a security or suitability investigation or the classification of a job.

E. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by PSA and who are covered by this system, including (but not limited to) decisions to effect any necessary remedial actions, e.g., debt collection activity, disciplinary and/or other appropriate personnel actions, and/or other law enforcement related actions, where appropriate.

F. To the appropriate Federal, state, local, foreign or other public authority responsible for investigating, prosecuting, enforcing or implementing a statute, rule, regulation, or order where PSA becomes aware of an indication of a violation or potential violation of civil or criminal law or regulation.

G. To disclose to the Office of Personnel Management in accordance with the agency's responsibility for evaluation and oversight of Federal personnel management.

H. To provide a copy of an employee's Department of the Treasury Form W-2, Wage and Tax Statement, to the state, city or other local jurisdiction which is authorized to tax the employee's compensation. The record will be provided in accordance with a withholding agreement between the state, city or other jurisdiction and the Department of the Treasury pursuant to 5 U.S.C. 5516, 5517 or 5520, or in response to a written request from an appropriate official of the taxing jurisdiction. The request must include a copy of the applicable statute or ordinance authorizing the taxation of compensation and should indicate whether the authority of the jurisdiction to tax their employee is based on a place of residence, place of employment or both.

I. To disclose information to the Department of Agriculture, National Finance Center, to effect distribution of pay according to employee directions and other authorized purposes.

J. Release information to the Internal Revenue Service (IRS). Information contained in the system may be disclosed to the IRS to obtain taxpayer mailing addresses for the purpose of locating such taxpayer to collect or compromise a Federal claim against the taxpayer.

K. Information directly related to the identity of debtors and the history of claims contained in the system of records may be disclosed to consumer reporting agencies for the purpose of encouraging repayment of overdue debts. Such disclosures will be made only when a claim is overdue and only after due process steps have been taken to notify the debtor and give him or her a chance to meet the terms of the debt.

L. Information may be released about debtors to the U.S. Treasury or other Federal employers in order to effect salary or administrative offsets. Information contained in the system of records may be disclosed to an employer in order to effect salary or administrative offsets to satisfy a debt owed the United States by that person. Such disclosures will be made only when all procedural steps established by the Debt Collection Act have been taken.

M. To disclose information to contractors, grantees, experts, consultants or volunteers performing or working on a contract, service or job for PSA.

N. A record may be disclosed to the National Archives and Records Administration and to the General Services Administration during a records management inspection conducted under 44 U.S.C. 2904 and 2906.

DISCLOSURE TO CONSUMER REPORTING AGENCIES:

Disclosure to consumer reporting agencies under subsection (b)(12) of the Privacy Act. Disclosure may be made from this system to consumer reporting agencies as defined in the Debt Collection Act of 1982 (31 U.S.C. 3701 (a)(3)) or the Fair Credit Reporting Act (15 U.S.C. 1681a(f)).

POLICIES AND PRACTICES FOR STORING, RETRIEVING, ACCESSING, RETAINING, AND DISPOSING OF RECORDS IN THE SYSTEM:

STORAGE:

The information is stored manually in individual folders.

RETRIEVABILITY:

Information is retrieved by the name or personal identifier of the individual.

SAFEGUARDS:

The information is maintained in a locked file cabinet.

RETENTION AND DISPOSAL:

Information is maintained and disposed of in accordance with General Records Schedule 2 and the Code of Federal Regulations. The period of retention will not exceed 6 years and 3 months.

SYSTEM MANAGER(S) AND ADDRESS:

Director, Pretrial Services Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

(1) Individuals who are current or former employees of the agency, and (2) Information obtained from current and former employers.

EXEMPTIONS CLAIMED FOR THE SYSTEM:

None.

CSOSA/PSA-5

SYSTEM NAME:

Time and Attendance Files.

SECURITY CLASSIFICATION:

None.

SYSTEM LOCATION:

Court Services and Offender Supervision Agency, Pretrial Services Agency, 633 Indiana Avenue, NW., Washington, DC 20004.

CATEGORIES OF INDIVIDUALS COVERED BY THE SYSTEM:

Current and former employees of PSA.

CATEGORIES OF RECORDS IN THE SYSTEM:

Time and attendance reports, leave slips and audit reports which contain the name, social security number, grade, leave category, leave balances and organization code.

AUTHORITY FOR MAINTENANCE OF THE SYSTEM:

5 CFR part 630.

PURPOSE(S):

To provide control, reporting and accounting for employee leave and pay.

ROUTINE USES OF RECORDS MAINTAINED IN THE SYSTEM, INCLUDING CATEGORIES OF USERS AND THE PURPOSES OF SUCH USES:

A. To provide information to a congressional member from the record of an individual in response to an inquiry from that congressional member made at the request of the employee.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance; the execution of a security or suitability investigation or the classification of a job.

E. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by PSA and who are covered by this system, including (but not limited to) decisions to effect any necessary remedial actions, e.g., debt collection activity, disciplinary and/or other appropriate personnel actions, and/or other law enforcement related actions, where appropriate.

F. To the appropriate Federal, state, local, foreign or other public authority responsible for investigating, prosecuting, enforcing or implementing a statute, rule, regulation, or order where PSA becomes aware of an indication of a violation or potential violation of civil or criminal law or regulation.

G. To disclose to the Office of Personnel Management in accordance with the agency's responsibility for evaluation and oversight of Federal personnel management.

H. To disclose information to the Department of Agriculture, National Finance Center to effect maintenance of pay and leave.

I. To disclose information to contractors, grantees, experts, consultants or volunteers performing or working on a contract, service or job for PSA.

J. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is stored manually in individual folders and electronically on a computer and computer disks.

RETRIEVABILITY:

Information can be retrieved by the name and/or social security number of the individual.

SAFEGUARDS:

Information is maintained in a locked file cabinet.

RETENTION AND DISPOSAL:

Information is maintained and disposed of in accordance with General Record Schedule 2 and the Code of Federal Regulations. The period of retention will not exceed 6 years and 3 months.

SYSTEM MANAGER(S) AND ADDRESS:

Human Resources Director, Pretrial Services Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

To locate a specific record, you must provide the name of the individual and provide at least two items of identification (date of birth, employee identification number, dates of employment or similar information). The address is the same as indicated in the Notification procedures.

CONTESTING RECORD PROCEDURES:

Contact the official at the address specified under Notification procedure above and reasonably identify the record and specify the information to be contested.

RECORD SOURCE CATEGORIES:

(1) Current or former employee; (2) current or former Time and Attendance personnel; (3) current or former employer; (4) National Finance Center staff.

EXEMPTIONS CLAIMED FOR THE SYSTEM:

None.

CSOSA/PSA-6

SYSTEM NAME:

Pretrial, Probation and Parole Realtime Information Systems Manager (PRISM).

SECURITY CLASSIFICATION:

None.

SYSTEM LOCATION:

Court Services and Offender Supervision Agency (CSOSA), Pretrial Services Agency (PSA), 633 Indiana Avenue, NW., Washington, DC 20004.

CATEGORIES OF INDIVIDUALS COVERED BY THE SYSTEM:

(1) Defendants charged with federal and local misdemeanor and felony charges, municipal violations and traffic offenses in the District of Columbia and (2) Individuals charged with federal and local misdemeanor and felony charges, municipal violations and traffic offenses in the District of Columbia and on probation and parole for local offenses.

CATEGORIES OF RECORDS IN THE SYSTEM:

Information includes defendants' personal, health and demographic information, criminal histories, substance abuse information to include assessments, testing and treatment, defendants' personal references and interview information.

AUTHORITY FOR MAINTENANCE OF THE SYSTEM:

National Capital Revitalization and Self-Government Improvement Act of 1997, Pub. L. 105-33, sections 11231-11234 and sections 11271-11260; 5 U.S.C. 301 and DC Code 23, sections 1301-1309.

PURPOSE(S):

Information is used to set bail, provide substance abuse treatment, monitor and supervise compliance with release conditions, report compliance with and violations of release conditions and assist with sentencing decisions.

ROUTINE USES OF RECORDS MAINTAINED IN THE SYSTEM, INCLUDING CATEGORIES OF USERS AND THE PURPOSES OF SUCH USES:

A. Disclosure may be made to a congressional office in response to an inquiry made at the request of a current and/or former offender/defendant under CSOSA/PSA supervision.

B. Information may be disclosed to any civil or criminal law enforcement agency, whether Federal, state, or local or foreign, which requires information relevant to disposition of a criminal justice matter in accordance with 42 CFR 2.35.

C. To provide information relating to D.C. defendants and offenders to Federal, local and state courts, court personnel, prosecutors, defense attorneys, corrections, probation, parole and other pretrial officials (except substance abuse and mental health treatment information).

D. To provide information source for contract or treatment facilities who provide services to defendants under PSA supervision (except substance abuse and mental health treatment information).

E. To provide information to the attorney on record for the defendant (except substance abuse and mental health treatment information).

F. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The information is stored electronically. Only authorized personnel have access to the information.

RETRIEVABILITY:

Information can be retrieved by the name of the individual, aliases and PDID, temporary ID numbers, “A” number, Bail Agency ID (BAID) number, case docket number and Bail Agency Case Entry (BACE) number.

SAFEGUARDS:

The server room is locked; access to the server is restricted and end users must have a valid User ID and password before they can gain access.

RETENTION AND DISPOSAL:

Information will be retained for 20 years after disposition of charge(s).

SYSTEM MANAGER(S) AND ADDRESS:

Director, Pretrial Services Agency, 633 Indiana Avenue, NW., Washington, DC 20004.

NOTIFICATION PROCEDURE:

Inquiries concerning this system should be directed to the Freedom of Information Act Office, Court Services and Offender Supervision Agency, 633 Indiana Avenue, NW., Washington, DC 20004.

RECORDS ACCESS PROCEDURES:

The major part of this system is exempt from this requirement under 5 U.S.C. 552a(j). To the extent that this system of records is not subject to exemption, it is subject to access and contest. A determination as to exemption shall be made at the time a request for access is received.

CONTESTING RECORD PROCEDURES:

Same as records access procedures above.

RECORD SOURCE CATEGORIES:

(1) Defendants; (2) Federal, state and local law enforcement agencies; (3) local, state and Federal corrections; (4) Federal, state and local probation, parole and pretrial services; (5) relatives, friends, and other community individuals; and (6) evaluation, observations and findings of agency staff, treatment providers and other social services agencies.

EXEMPTIONS CLAIMED FOR THE SYSTEM:

This system is exempt from 5 U.S.C. 552a (c)(3) and (4), (d), (e)(1), (2), (3), (4)(G) through (4)(I), (5), and (8) and (g) of the Privacy Act pursuant to 5 U.S.C. 552a(j)(2). In addition, the system has been exempted from subsections (c)(3), (d) and (e)(1) pursuant to subsections (k)(1) and (k)(2). Rules have been promulgated in accordance with the requirements of 5 U.S.C. 553 (b), (c) and (e) and have been published in the Federal Register.

[FR Doc. 02-6092 Filed 3-14-02; 8:45 am]

BILLING CODE 3129-01-P